DEPARTMENT OF COMMERCE

National Oceanic and Atmospheric Administration

50 CFR Part 660

[Docket No. 180625576-8576-01]

RIN 0648-BH93

Magnuson-Stevens Act Provisions; Fisheries Off West Coast States; Pacific Coast Groundfish Fishery; 2019-20 Biennial Specifications and Management Measures

AGENCY: National Marine Fisheries Service (NMFS), National Oceanic and Atmospheric Administration (NOAA), Commerce.

ACTION: Proposed rule; request for comments.

SUMMARY: This proposed rule would establish the 2019-20 harvest specifications and management measures for groundfish taken in the U.S. exclusive economic zone off the coasts of Washington, Oregon, and California, consistent with the Magnuson-Stevens Fishery Conservation and Management Act and the Pacific Coast Groundfish Fishery Management Plan. This proposed rule would also revise the management measures that are intended to keep the total catch of each groundfish stock or stock complex within the harvest specifications. The proposed measures are intended to help prevent overfishing, rebuild overfished stocks, achieve optimum yield, and ensure that management measures are based on the best scientific information available.

DATES: Comments must be received no later than October 19, 2018.

ADDRESSES: Submit your comments, identified by NOAA-NMFS-2018-0056, by either of the following methods:

• Federal e-Rulemaking Portal: Go to www.regulations.gov/#!docketDetail;D=NOAA-NMFS-2018-0056, click the “Comment Now!” icon, complete the required fields, and enter or attach your comments.

• Mail: Submit written comments to Barry Thom, Regional Administrator, West Coast Region, NMFS, 7600 Sand Point Way NE, Seattle, WA 98115-0070.

Instructions: NMFS may not consider comments if they are sent by any other method, to any other address or individual, or received after the comment period ends. All comments received are a part of the public record and NMFS will post for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Keeley Kent, phone: 206-526-4655, fax: 206-526-6736, or email: Keeley.Kent@noaa.gov.

SUPPLEMENTARY INFORMATION:

Electronic Access

This rule is accessible via the internet at the Office of the Federal Register website at https://www.federalregister.gov/. Background information and documents including an integrated analysis for this action (Analysis), which addresses the statutory requirements of the Magnuson Stevens Fishery Conservation and Management Act (Magnuson-Stevens Act), the National Environmental Policy Act, Presidential Executive Order 12866, and the Regulatory Flexibility Act are available at the NMFS West Coast Region website at http://www.westcoast.fisheries.noaa.gov/fisheries/groundfish/index.html and at the Pacific Fishery Management Council's website at http://www.pcouncil.org. The final 2018 Stock Assessment and Fishery Evaluation (SAFE) report for Pacific Coast groundfish, as well as the SAFE reports for previous years, are available from the Pacific Fishery Management Council's website at http://www.pcouncil.org.

Executive Summary

Purpose of the Regulatory Action

This proposed rule would implement the 2019-20 harvest specifications and management measures for groundfish stock taken in the U.S. exclusive economic zone off the coasts of Washington, Oregon, and California. The purpose of this proposed rule is to conserve and manage Pacific Coast groundfish fishery resources to prevent overfishing, to rebuild overfished stocks, achieve optimum yield (OY), and ensure that management measures are based on the best scientific information available. This action proposes harvest specifications for 2019-20 consistent with existing or revised default harvest control rules for all stocks, and establishes management measures designed to keep catch within the appropriate limits. The harvest specifications are set consistent with the OY harvest management framework described in Chapter 4 of the Pacific Coast Groundfish Fishery Management Plan (PCGFMP).

Major Provisions

This proposed rule contains two types of major provisions. The first are the harvest specifications (overfishing limits (OFLs), acceptable biological catches (ABCs), and annual catch limits (ACLs)), and the second are management measures designed to keep fishing mortality within the ACLs. The Council developed the harvest specifications (OFLs, ABCs, and ACLs) in this rule through a rigorous scientific review and decision making process, which is described later in this proposed rule.

The OFL is the maximum sustainable yield (MSY) harvest level and is an estimate of the catch level above which overfishing is occurring. The Pacific Fishery Management Council's (Council) Scientific and Statistical Committee (SSC) recommends OFLs based on the best scientific information available. The ABC is an annual catch specification that is the stock or stock complex's OFL reduced by an estimate of scientific uncertainty. The SSC-recommended method for incorporating scientific uncertainty is referred to as the P star-sigma approach, which is discussed in detail in the proposed and final rules for the 2011-12 (75 FR 67810, November 3, 2010; 76 FR 27508, May 11, 2011) and 2013-14 (77 FR 67974, November 12, 2012; 78 FR 580, January 3, 2013) biennial harvest specifications and management measures. The ACL is a harvest specification set equal to or below the ABC. The Council recommends ACLs at a level that should achieve OY from the fishery, which is the amount of fish that will provide the greatest overall benefit to the Nation, particularly with respect to food production and recreational opportunities, and taking into account the protection of marine ecosystems. The ACLs are based on consideration of conservation objectives, socio-economic concerns, management uncertainty, and other factors. All known sources of fishing and scientific research catch are counted against the ACL. Many stocks are further allocated into harvest guidelines (HGs) or annual catch targets (ACTs) for the purposes of dividing catch between different gear types and sectors or building in a precautionary approach to prevent catch from exceeding an ACL.

This proposed rule includes harvest specifications for the two overfished stocks managed under the PCGFMP, yelloweye rockfish and cowcod. For the 2019-20 biennium, NMFS proposes changes to the yelloweye rockfish rebuilding plan, due to its improved stock rebuilding outlook and changes to the needs of fishing communities, described under section C of this rule. This proposed rule would modify the harvest control rule for this stock and establish harvest specifications and management measures consistent with those revisions. The other overfished stock, cowcod, continues to have a positive rebuilding outlook, and no changes to its rebuilding plan are proposed. Therefore, this rule proposes to establish harvest specifications consistent with the existing rebuilding plan provisions for this stock. Since the 2017-18 biennium, three stocks have been declared rebuilt: Darkblotched rockfish, bocaccio rockfish (bocaccio), and Pacific ocean perch. The harvest control rules for these stocks revert back to those established prior to the stock being declared overfished.

To keep mortality of the stocks managed under the PCGFMP within the ACLs, the Council also recommended management measures. Generally speaking, management measures are intended to rebuild overfished stocks, prevent catch from exceeding the ACLs, and allow for the harvest of healthy stocks. Management measures include time and area restrictions, gear restrictions, trip or bag limits, size limits, and other management tools. Management measures may vary by fishing sector because different fishing sectors require different types of management to control catch. Most of the management measures the Council recommended for 2019-20 were slight variations to existing management measures, and do not represent a change from current management practices. Additionally, the Council recommended several new management measures, including: Establishment of salmon bycatch mitigation measures, modifications to depth restrictions in the Western Cowcod Conservation Area (CCA), modification of discard mortality rates for IFQ lingcod and sablefish, removal of the Shorebased Individual Fishing Quota (IFQ) Program daily vessel limits, removal of the automatic authority on at-sea set-asides, continuation of the IFQ adaptive management pass through, and modification of the retention ratios for incidentally caught lingcod in the salmon troll fishery.

Table of Contents

I. Background

A. Specification and Management Measure Development Process

II. Harvest Specifications

A. Proposed OFLs for 2019 and 2020

B. Proposed ABCs for 2019 and 2020

C. Proposed ACLs for 2019 and 2020

D. Summary of ACL Changes From 2018 to 2019-20

III. Management Measures

A. Deductions From the ACLs

B. Stock Complex Composition Restructuring

C. Biennial Fishery Allocations

D. Tribal Fisheries

E. Routine Modifications to the Boundaries Defining Rockfish Conservation Areas (RCAs)

F. Limited Entry Trawl

G. Limited Entry Fixed Gear and Open Access Nontrawl Fishery

H. Recreational Fisheries

I. Salmon Bycatch Mitigation Measures

J. Modifications to Depth Restrictions Within the Western CCA

K. Modification of Lingcod and Sablefish Discard Mortality Rates

L. Removal of IFQ Daily Vessel Limits

M. Removal of Automatic Authority for Darkblotched Rockfish and Pacific Ocean Perch Set-Asides for At-Sea Sector

N. Continuation of Adaptive Management Pass Through

O. Modification of the Incidental Lingcod Retention Ratio in the Salmon Troll Fishery

P. Administrative Actions

IV. Classification

I. Background

The PCGFMP requires the harvest specifications and management measures for groundfish to be set at least biennially. This proposed rule is based on the Council's final recommendations made at its June 2018 meeting, as well as harvest specifications for some stocks adopted at the Council's April 2018 meeting.

A. Specification and Management Measure Development Process

The Northwest Fisheries Science Center (NWFSC) conducted full stock assessments in 2017 for 9 of the 128 stocks ¹ included under the PCGFMP (Blue/deacon rockfish (CA, WA, OR), California scorpionfish, lingcod [north and south], Pacific ocean perch, yellowtail rockfish north of 40°10′ N lat., yelloweye rockfish). Additionally, the NWFSC conducted assessment updates that run new data through existing models for eight stocks (arrowtooth flounder, blackgill rockfish south of 40°10′ N lat., bocaccio S of 43° N lat., darkblotched rockfish). The NWFSC did not update assessments for the remaining stocks, so harvest specifications for these stocks are based on assessments from previous years. The stock assessment reports are available on the Council website (https://www.pcouncil.org/).

¹ Stocks for which ACLs or ACL contributions to stock complex ACLs are calculated.

The Council's stock assessment review panel (STAR panel) reviews the stock assessments, including data moderate assessments, for technical merit, and to determine that each stock assessment document is sufficiently complete. Finally, the SSC reviews the stock assessment and STAR panel reports and makes recommendations to the Council.

When spawning stock biomass (B) falls below the minimum stock size threshold (MSST), a stock is declared overfished, and the Council must develop a rebuilding plan that sets the strategy for rebuilding the stock to BMSY in the shortest time possible, while considering needs of fishing communities and other factors. The current MSST reference point for assessed flatfish stocks is 12.5 percent of initial biomass or B12.5%. For all other assessed groundfish stocks, the current MSST reference point is 25 percent of initial biomass or B25%. The following overfished groundfish stocks would continue be managed under rebuilding plans in 2019-20: Cowcod south of 40°10′ N lat. and yelloweye rockfish.

For overfished stocks, in addition to any stock assessments or stock assessment updates, the NWFSC may also prepare rebuilding analyses. The rebuilding analysis is used to project the future status of the overfished resource under a variety of alternative harvest strategies and to determine the probability of recovering to BMSY or its proxy within a specified timeframe.

The Council considered new stock assessments, stock assessment updates, a rebuilding analysis for yelloweye rockfish, public comment, and advice from its advisory bodies over the course of six Council meetings during development of its recommendations for the 2019-20 harvest specifications and management measures. At each Council meeting between June 2017 and June 2018, the Council made a series of decisions and recommendations that were, in some cases, refined after further analysis and discussion. Detailed information, including the supporting documentation the Council considered at each meeting is available at the Council's website, www.pcouncil.org.

The 2019-20 biennial management cycle was the second cycle following PCGFMP Amendment 24 (80 FR 12567, March 10, 2015), which established default harvest control rules and included an Environmental Impact Statement (EIS). The EIS described the ongoing implementation of the PCGFMP and default harvest control rules, along with ten-year projections for harvest specifications and a range of management measures. Under Amendment 24, the default harvest control rules used to determine the previous biennium's harvest specifications (i.e., OFLs, ABCs, and ACLs) are applied automatically to the best scientific information available to determine the future biennium's harvest specifications. NMFS implements harvest specifications based on the default harvest control rules unless the Council makes a different recommendation. Therefore, this rule implements the default harvest control rules, consistent with Amendment 24, for most stocks, and discusses departures from the defaults. The Analysis identifies the preferred alternative harvest control rules, new management measures, and other decision points that were not described in the 2015 EIS and is posted on the NMFS WCR web page (see SUPPLEMENTARY INFORMATION) along with this proposed rule.

Information regarding the OFLs, ABCs, and ACLs proposed for groundfish stocks and stock complexes in 2019-20 is presented below, followed by a discussion of the proposed management measures for commercial and recreational groundfish fisheries.

II. Harvest Specifications

This proposed rule would set 2019-20 harvest specifications and management measures for all of the 128 groundfish stocks which have ACLs or ACL contributions to stock complexes managed under the PCGFMP, except for Pacific whiting. Pacific whiting harvest specifications are established annually through a separate bilateral process with Canada.

The proposed OFLs, ABCs, and ACLs are based on the best available biological and socioeconomic data, including projected biomass trends, information on assumed distribution of stock biomass, and revised technical methods used to calculate stock biomass. The PCGFMP specifies a series of three categories to define OFLs and ABCs based on the level of reliable information available to fishery scientists. Category one represents the highest level of information quality available, while category three represents the lowest. Category one stocks are the relatively few stocks for which the NWFSC can conduct a “data rich,” quantitative stock assessment that incorporates catch-at-age, catch-at-length, or other data. The SSC can generally calculate OFLs and overfished/rebuilding thresholds for these stocks, as well as ABCs, based on the uncertainty of the biomass estimated within an assessment or the variance in biomass estimates between assessments for all stocks in this category. The set of category two stocks includes a large number of stocks for which some biological indicators are available, yet status is based on a “data-moderate” quantitative assessment. The category three stocks include minor stocks which are caught, but for which there is, at best, only information on landed biomass. For stocks in this category, there is limited data available for the SSC to quantitatively determine MSY, OFL, or an overfished threshold. Typically, catch-based methods (e.g., depletion-based stock reduction analysis (DBSRA), depletion corrected average catch (DCAC), and average catches) are used to determine the OFL for category three stocks.

A. Proposed OFLs for 2019 and 2020

The SSC derives OFLs for groundfish stocks with stock assessments by applying the harvest rate to the current estimated biomass. Fx% harvest rates represent the rates of fishing mortality that will reduce the female spawning potential ratio (SPR) to X percent of its unfished level. As an example, a harvest rate of F40% is more aggressive than F45% or F50% harvest rates because F40% allows more fishing mortality on a stock (as it allows a harvest rate that would reduce the stock to 40 percent of its unfished level).

For 2019-20, the Council maintained its policy of using a default harvest rate as a proxy for the fishing mortality rate that is expected to achieve the maximum sustainable yield (FMSY). A proxy is used because there is insufficient information for most Pacific Coast groundfish stocks to estimate stock-specific FMSY values. Taxon-specific proxy fishing mortality rates are used due to perceived differences in the productivity among different taxa of groundfish. A lower value is used for stocks with relatively high resilience to fishing while higher values are used for less resilient stocks with low productivity. In 2019-20, the Council proposed the following default harvest rate proxies, based on the SSC's recommendations: F30% for flatfish (meaning an SRP harvest rate that would reduce the stock to 30 percent of its unfished level), F40% for Pacific whiting, F50% for rockfish (including longspine and shortspine thornyheads), F50% for elasmobranchs, and F45% for other groundfish such as sablefish and lingcod. For unassessed stocks, the Council recommended using a historical catch-based approach (e.g., average catch, depletion-corrected average catch, or depletion-based stock reduction analysis) to set the OFL.

Stocks may be grouped into complexes for various reasons, including: When stocks in a multispecies fishery cannot be targeted independently of one another and MSY cannot be defined on a stock-by-stock basis; when there is insufficient data to measure the stocks' status; or when it is not feasible for fishermen to distinguish individual stocks among their catch. Most groundfish stocks managed in a stock complex are data-poor stocks without full stock assessments. The proposed OFLs for stock complexes are the sum of the OFL contributions for the component stocks, when known. In the 2017-18 harvest specifications, there were eight stock complexes used to manage groundfish stocks pursuant to the PCGFMP. These stock complexes were: (1) Minor Nearshore Rockfish north; (2) Minor Nearshore Rockfish south; (3) Minor Shelf Rockfish north; (4) Minor Shelf Rockfish south (5) Minor Slope Rockfish north; (6) Minor Slope Rockfish south; (7) Other Flatfish; and (8) Other Fish. This rule proposes the following changes to stock complexes: (1) Remove blue/deacon rockfish from the Minor Nearshore Rockfish north complex and group with Oregon black rockfish to create a new complex (Oregon black rockfish/blue rockfish/deacon rockfish); (2) remove Washington kelp greenling from the Other Fish complex and pair with Washington cabezon to create a new complex (Washington cabezon/kelp greenling); (3) remove Oregon kelp greenling from the Other Fish complex and pair with Oregon cabezon to create a new complex (Oregon cabezon/kelp greenling). This proposed rule, if approved, would increase the total of number of stock complexes from eight to eleven.

A detailed description of the scientific basis for all of the SSC-recommended OFLs proposed in this rule is included in the Stock Assessment and Fishery Evaluation (SAFE) document for 2018, available at the Council's website, www.pcouncil.org.

B. Proposed ABCs for 2019 and 2020

The ABC is the stock or stock complex's OFL reduced by an amount associated with scientific uncertainty. The SSC-recommended P star-sigma approach determines the amount by which the OFL is reduced to establish the ABC. Under this approach, the SSC recommends a sigma (σ) value. The σ value is generally based on the scientific uncertainty in the biomass estimates generated from stock assessments. After the SSC determines the appropriate σ value, the Council chooses a P star (P*) based on its chosen level of risk aversion considering the scientific uncertainties. A P* of 0.5 equates to no additional reduction for scientific uncertainty beyond the sigma value reduction. The PCGFMP specifies that the upper limit of P* will be 0.45. In combination, the P* and σ values determine the amount by which the OFL will be reduced to establish the SSC-endorsed ABC.

The SSC quantified major sources of scientific uncertainty in the estimates of OFLs and generally recommended a σ value of 0.36 for category one stocks, a σ value of 0.72 for category two stocks, and a σ value of 1.44 for category three stocks. For category two and three stocks, there is greater scientific uncertainty in the OFL estimate because the assessments for these stock assessments are informed by less data than the assessments for category one stocks. Therefore, the scientific uncertainty buffer is generally greater than that recommended for stocks with quantitative stock assessments. Assuming the same P* is applied, a larger σ value results in a larger reduction from the OFL. For 2019-20, the Council continued the general policy of using the SSC-recommended σ values for each stock category. However, the SSC made a few exceptions to the standard σ values assigned to each category. For some stocks, the SSC did not deem the proxy σ values the best scientific information available because the uncertainty in estimated spawning biomass is greater than the σ used as a proxy for other stocks in that category. For 2019-20, the SSC calculated unique σ values for five stocks. For kelp greenling off Oregon, a category 1 stock, the SSC calculated a σ value of 0.44, which is more precautionary than the standard σ value of 0.36 for this category of stocks. For aurora rockfish, also a category 1 stock, the SSC calculated a σ value of 0.39. And for California scorpionfish, the SSC calculated a σ value of 0.582. The SSC also calculated a σ value of 0.783 for California blue/deacon rockfish, and a σ value of 0.803 for Oregon blue/deacon rockfish, both category 2 stocks. These σ values are higher than the standard σ value of 0.72 for this category of stocks.

For 2019-20, the Council maintained the P* policies it established for the previous biennium for most stocks. As was done in 2015-16 and 2017-18, the Council recommended using P* values of 0.45 for all individually managed category one stock, except sablefish. Combining the category one σ value of 0.36 with the P* value of 0.45 results in a reduction of 4.4 percent from the OFL when deriving the ABC. For category two and three stocks, the Council's general policy was to use a P* of 0.4, with a few exceptions. The Council recommended a P* of 0.45 for all of the stocks managed in the Minor Rockfish complexes and the Other Fish complex, as was done in 2017-18. When combined with the σ values of 0.72 and 1.44 for category two and three stocks, a P* value of 0.40 corresponds to 16.7 percent and 30.6 percent reductions, respectively. The Council recommended using P* values of 0.40 for all individually managed category two and three stocks, except those described below. The Council recommended a P* of 0.45 for big skate, black rockfish off Oregon, cowcod, English sole, and yellowtail rockfish south of 40°10′ N lat., as was done in 2015-16 and 2017-18, because there was no new scientific information indicating a change in P* value was warranted.

C. Proposed ACLs for 2019 and 2020

The Council recommends ACLs for each stock and stock complex that is “in the fishery”, as defined in the PCGFMP. Under the PCGFMP, the biomass level that produces MSY, or BMSY, is defined as the precautionary threshold. When the biomass for an assessed category one or two stock falls below the precautionary threshold, the ACL is set below the ABC using a harvest rate reduction to help the stock return to the BMSY level, which is the management target for groundfish stocks. If a stock biomass is larger than BMSY, the ACL may be set equal to the ABC. Alternatively, even if a stock biomass is larger than BMSY, an ACL may be set below the ABC to address conservation objectives, socioeconomic concerns, management uncertainty, or other factors necessary to meet management objectives.

Under PCGFMP Amendment 24, the Council set up default harvest control rules, which established default policies that would be applied to the best available scientific information to set ACLs each biennial cycle, unless the Council has reasons to diverge from that harvest control rule. A complete description of the default harvest control rules for setting ACLs is described in the proposed and final rule for the 2015-16 harvest specifications and management measures and PCGFMP Amendment 24 (80 FR 687, January 6, 2015; 80 FR 12567, March 10, 2015).

Many groundfish stocks are managed with stock-specific harvest specifications. Often these stocks are category one or category two stocks and their stock status is known. The default harvest control rule for stocks with biomass estimates above MSY is to set the ACL equal to the ABC. The default harvest control rule for stocks with biomass estimates below MSY but above the overfished threshold is to set the ACL below the ABC using a standard reduction on the harvest rate, which is described in the proposed and final rules for the 2015-16 biennium (80 FR 687, January 6, 2015; 80 FR 12567, March 10, 2015). The PCGFMP defines the 40-10 harvest control rule for stocks with a BMSY proxy of B40% that are in the precautionary zone as the standard reduction. The analogous harvest control rule with the standard reduction for assessed flatfish stocks is the 25-5 harvest control rule. Both ACL harvest control rules are applied after the ABC deduction is made. The further the stock biomass is below the precautionary threshold, the greater the reduction in ACL relative to the ABC, until at B10% for a stock with a BMSY proxy of B40%, or B5% for a stock with a BMSY proxy of B25%, the ACL would be set at zero. These harvest policies foster a quicker return to the BMSY level and serve as an interim rebuilding policy for stocks that are below the MSST.

All of the ACLs for stock complexes are less than or equal to the summed ABC contributions of each component stock in each complex. Default harvest control rules are based on stock status. Thus, when the Council revises the stock composition of a stock complex, the default harvest control rule may adjust based on status of the stocks that remain in the complex.

Under the PCGFMP, the Council may recommend setting the ACL at a different level than what the default harvest control rules specify as long as the ACL does not exceed the ABC and complies with the requirements of the Magnuson-Stevens Act. For many of the stocks or stock complexes in the fishery, the Council chose to maintain the default harvest control rules from the previous biennial cycle. Table 1 presents a summary table of the proposed changes to ACL policies for certain stocks for 2019-20.

Table 1—Proposed Changes to Harvest Control Rules for 2019-20
Stock | Alternative | Harvest control rule | ACL ᵃ
CA Scorpionfish S of 34°27′ N lat | Current Proposed change | 150 mt constant catch ACL ACL = ABC (P* = 0.45) | 150 mt 313 mt
Lingcod N of 40°10′ N lat | Current | ACL = ABC (P* = 0.45 in OR & WA; P* = 0.4 in CA) w/40-10 adj. for the CA contribution to the ABC and ACL Assumes 1,000 mt and 750 mt removals for 2017 and 2018 in the north and south, respectively and full ACL attainment thereafter | 3,110 mt
| Proposed change | ACL = ABC (P* = 0.45) w/40-10 adj. for the CA contribution to the ABC and ACL Assumes 40% and 75% ACL attainment for 2017 and 2018 in the north and south, respectively and full ACL attainment thereafter | 4,871 mt
Lingcod S of 40°10′ N lat | Current | ACL = ABC (P* = 0.4) w/40-10 adj. Assumes 1,000 mt and 750 mt removals for 2017 and 2018 in the north and south, respectively and full ACL attainment thereafter | 1,144 mt
| Proposed change | ACL = ABC (P* = 0.45) w/40-10 adj. Assumes 40% and 75% ACL attainment for 2017 and 2018 in the north and south, respectively and full ACL attainment thereafter | 1,039 mt
Yelloweye Rockfish | Current Proposed change | ABC (P* = 0.4), ACL (SPR = 76.0%); TTARGET = 2027 ABC (P* = 0.4), ACL (SPR = 65.0%); TTARGET = 2029 | 20 mt 48 mt
ᵃ Current ACL is for 2018, Proposed change ACL is for 2019.

The following sections discuss proposed ACLs for the stocks for which the Council's recommended ACLs depart from the existing default harvest control rule.

California Scorpionfish

For the 2017-18 biennium, the default harvest control rule set the ACL for California scorpionfish at a constant value of 150 mt rather than on a rate-based value. The NWFSC conducted a new assessment of California scorpionfish south of 34°27′ N lat. in 2017. The assessment indicated the stock was healthy at a 54 percent depletion at the start of 2017. The Council recommended and NMFS is proposing an alternative harvest control rule for California scorpionfish. The revised harvest control rule would set the ACL equal to the ABC using a P* value of 0.45, consistent with other category one stocks. The resulting 2019-20 ACLs would more than double compared to the 2018 ACL under this new harvest control rule. The stock is projected to remain healthy (i.e., greater than 40 percent depletion) for the next ten years under the proposed alternative harvest control rule.

Lingcod

The NWFSC conducted two assessments for lingcod in 2017—one each for the areas north and south of the California/Oregon border at 42° N lat. Current spawning stock biomass is estimated to be 57.9 percent in the northern assessment area relative to unfished spawning biomass, and has continued to increase over the last five years as a result of high recruitment in 2008 and 2013. Current spawning stock biomass is estimated to be 32.1 percent in the southern assessment area relative to unfished spawning biomass. Although spawning biomass in the southern assessment area is estimated to have been increasing in recent years, recruitment is estimated to have been well below average over the last 10 to 15 years, which suggests that stock biomass is not increasing for the southern portion of the stock at the same rate as for the northern portion of the stock. The SSC endorsed the 2017 north and south lingcod stock assessments as the best scientific information available for status determination and management, and designated both portions of the stock as category one. The stocks had been previously managed as category two stocks. The current harvest control rule sets the ACL equal to the ABC for the portion of the northern stock off Oregon, but applies the 40-10 precautionary reduction to the portion of the northern stock off California (i.e., between 42° and 40°10′ N lat.), and to the whole of the southern stock using the most recent 5-year (2012-2016) average percentage of swept area biomass estimates.

This proposed rule would change the P* value from 0.4 to 0.45 for both portions of the stock, reflecting greater confidence in the current stock assessments. The resulting 2019 and 2020 ACLs for the northern portion of the stock would increase by approximately 64 percent and 68 percent, respectively, compared to the 2018 ACL under this new harvest control rule. The resulting 2019 and 2020 ACL under this new harvest control rule for the southern portion of the stock would decrease by approximately 9 percent and 24 percent, respectively, compared to the 2018 ACL. This proposed action is expected to allow moderate growth of the stock under an average recruitment assumption in the next ten years.

Overfished Stocks and Changes to Rebuilding Plans

When a stock has been declared overfished, the Council must develop and manage the stock in accordance with a rebuilding plan. For overfished stocks in the PCGFMP, this means that the harvest control rule for overfished stocks sets the ACL based on the rebuilding plan. The proposed rules for the 2011-12 (75 FR 67810, November 3, 2010) and 2013-14 (77 FR 67974, November 14, 2012) harvest specifications and management measures contain extensive discussions on the management approach used for overfished stocks, which are not repeated here. In addition, the SAFE document posted on the Council's website at http://www.pcouncil.org/groundfish/safe-documents/ contains a detailed description of each overfished stock, its status and management, as well as the SSC's approach for rebuilding analyses. This document discusses several previously overfished stocks that have rebuilt since the last biennium, as well as provisions for the two remaining overfished stocks in the PCGFMP, namely cowcod south of 40°10′ N lat. and yelloweye rockfish. The Council proposed cowcod ACLs for 2019 and 2020 based on the current cowcod rebuilding plan, so additional details are not repeated here. Appendix F to the PCGFMP contains the most recent rebuilding plan parameters, as well as a history of each overfished stock, and can be found at http://www.pcouncil.org/groundfish/fisherymanagement-plan/.

Stocks Rebuilt Since Last Biennium

When a stock is determined to be rebuilt, its harvest control rule automatically reverts back to the default harvest control rule for the next biennium. For the 2019-20 biennium, three stocks were declared rebuilt: Bocaccio, Pacific ocean perch, and darkblotched rockfish. In addition to the harvest control rules for these stocks reverting back to the defaults for the 2019-20 biennium, other requirements for overfished stocks are removed. One such change is that these stocks would no longer be listed under the priority stock observer reporting requirements at § 660.140(h)(1)(i)(3). This proposed change is described further under the heading, P. Administrative Actions, in this preamble.

Yelloweye Rockfish (Sebastes Ruberrimus)

Yelloweye rockfish was declared overfished in 2002. The Council adopted a rebuilding plan for the stock in 2004, and revised the rebuilding plan in 2011 under Amendment 16-4 to the PCGFMP. The current rebuilding plan parameters include an SPR harvest rate of 76 percent and a median target time for rebuilding (TTARGET) of 2074 (the year for which there is a 50 percent probability that the stock is rebuilt). The NWFSC conducted a new stock assessment for yelloweye rockfish in 2017, and the SSC conducted a rebuilding analysis using the updated assessment. The rebuilding analysis includes a recalculation of rebuilding parameters that inform the Council's decision-making process. According to the rebuilding analysis, should the Council decide to revise the existing rebuilding plan, the new minimum time to rebuild (TMIN; the time to rebuild if there was no fishing) would be 2026 and TTARGET would be changed from 2074 (in the 2011 assessment) to 2027 (in the 2017 assessment). Under the current harvest control rule, the ACL for yelloweye would increase to 29 mt and 30 mt in 2019 and 2020, respectively, an increase from 20 mt in 2018. This improvement in stock status outlook is due to several factors, including: Lower than expected catches of yelloweye rockfish in recent years; a more optimistic value on stock recruit steepness, which corresponds to a more productive stock; and strong year classes entering the spawning population in recent years.

As a result of the improvement in stock outlook, the Council recommended, and NMFS is proposing, changing the SPR harvest rate for yelloweye rockfish to 65 percent and changing the TTARGET to 2029. This change in the rebuilding plan would allow an ACL for yelloweye rockfish of 48 mt in 2019 and 49 mt in 2020. Within the ACL, for 2019, the Council recommended a fishery harvest guideline (HG) of 42.1 mt, of which 3.4 mt is the trawl HG and 38.6 mt is the nontrawl HG. For 2020, NMFS proposes a fishery HG of 42.1 mt, of which 3.4 is the trawl HG and 39.5 is the nontrawl HG. For more discussion of the use of HGs, see section II (Harvest Specifications), C, entitled “C. Biennial Fishery Allocations” in this preamble.

Additionally, the Council recommended, and NMFS is proposing, to establish Annual Catch Targets (ACTs) within the nontrawl allocation HG. The nontrawl sector includes the limited entry fixed gear and open access fixed gear fisheries as well as the recreational fisheries for Washington, Oregon, and California. The nearshore fisheries occur off of Oregon and California and are subject to both Federal and state HGs as well as other state-specific management measures. The non-nearshore fisheries include the limited entry and federal open access fixed gear fleets. Table 2 outlines the harvest specifications that were in place for yelloweye rockfish for 2018 for comparison purposes. Tables 3 and 4 outline the proposed harvest specifications for 2019 and 2020 for yelloweye rockfish.

Table 2—2018 Harvest Specifications for Yelloweye Rockfish
| OFL (mt) | ABC (mt) | ACL (mt) | HG (mt)
All sectors | 58 | 48 | 20 | 14
Nontrawl |  |  |  | 12.9
Non-Nearshore |  |  |  | 0.7
Nearshore |  |  |  | 2.0
Washington Recreational |  |  |  | 3.3
Oregon Recreational |  |  |  | 3
California Recreational |  |  |  | 3.9
Trawl |  |  |  | 1.1

Table 3—2019 Harvest Specifications for Yelloweye Rockfish
| OFL (mt) | ABC (mt) | ACL (mt) | HG (mt) | ACT (mt)
All sectors | 82 | 74 | 48 | 42 |
Nontrawl |  |  |  | 38.6 |
Non-Nearshore |  |  |  | 2.0 | 1.6
Nearshore |  |  |  | 6.0 | 4.7
Washington Recreational |  |  |  | 10.0 | 7.8
Oregon Recreational |  |  |  | 8.9 | 7.0
California Recreational |  |  |  | 11.6 | 9.1
Trawl |  |  |  | 3.4 |

Table 4—2020 Harvest Specifications for Yelloweye Rockfish
| OFL (mt) | ABC (mt) | ACL (mt) | HG (mt) | ACT (mt)
All sectors | 84 | 77 | 49 | 43 |
Nontrawl |  |  |  | 39.5 |
Non-Nearshore |  |  |  | 2.1 | 1.7
Nearshore |  |  |  | 6.2 | 4.9
Washington Recreational |  |  |  | 10.2 | 8.1
Oregon Recreational |  |  |  | 9.1 | 7.2
California Recreational |  |  |  | 11.9 | 9.4
Trawl |  |  |  | 3.4 |

The Council recommended using ACTs for the nontrawl sector as a precaution. As discussed in the Analysis, because yelloweye rockfish catch has been restricted for many years, it is difficult to project how encounter rates will change under the proposed higher catch limits and the associated suite of management measures that should allow for an overall expansion of groundfish fishery effort (see section 4.2.1.3 of the Analysis). This precautionary approach to higher catch limits would allow more access to target fisheries for the nontrawl sector, while also managing for the uncertainty and volatility in catch of this overfished stock by this sector.

The Analysis demonstrates how the proposed changes to the rebuilding plan select a TTARGET that is as short as possible, while giving consideration to the status and biology of the overfished species and the needs of the fishing communities, consistent with Section 303(e)(4) of the Magnuson-Stevens Act (see Appendix B of the Analysis). The Council indicated that a new default harvest control rule may more appropriately account for the needs of West Coast communities by providing greater opportunity in both commercial and recreational groundfish sectors and improving income stability for dependent communities.

West Coast fishing communities depend on a portfolio of commercial and recreational fisheries to support year-round operations. Recent coastwide declines in commercial fisheries for Dungeness crab, salmon, sardines, tuna, pink shrimp, halibut, and other non-groundfish stocks due to changing environmental conditions and changes in management have created considerable instability for many communities. Additionally, many of these communities have experienced substantial declines in recreational fishing activity, notably for salmon and for tuna (see Section B.1.1. of Appendix B). Groundfish fishing activity has traditionally helped communities weather cyclical changes in abundance in other non-groundfish fisheries. However, the restrictions in catch of target groundfish stocks necessary to support rebuilding of overfished groundfish stocks over the past 15 years has limited both commercial and recreational groundfish fishing opportunities. The loss of groundfish fishing opportunities further affects fishing communities through loss of processor activity and loss of business for support services.

The proposed change to the yelloweye rockfish rebuilding plan is intended to support continued yelloweye rebuilding progress while providing more stability for coastal communities through increased access to co-occurring target stocks. Yelloweye rockfish bycatch is rare and unpredictable, but can occur in sporadic “lightning strikes” of large magnitude. Because yelloweye rockfish catch is difficult to predict, the Council has constrained yelloweye rockfish catch below the ACL set in the current rebuilding plan by conservatively managing co-occurring target stocks. This proposed rebuilding plan would increase the estimated TTARGET by two years, from 2027 to 2029, which is still within the required 10-year rebuilding timeframe specified in section 304(e)(4) of the Magnuson-Stevens Act, but which would more than double the yelloweye rockfish ACL in 2019 compared to 2018.

The higher ACLs resulting from the revised rebuilding plan allow a suite of management measures that could expand groundfish fishing opportunities. For commercial trawl vessels, this proposed action would facilitate more trading of yelloweye rockfish allocation, which should allow for less risk-averse fishing strategies and as a result, an increase in attainment of underutilized stocks, including lingcod, chilipepper rockfish, and Pacific cod (see Section B.5.2.3 of Appendix B of the Analysis). For commercial fixed gear vessels, the yelloweye rockfish ACL increases could support future actions to consider reopening the nontrawl Rockfish Conservation Area or to consider increasing trip limits for target stocks such as lingcod (see Section B.5.2.2 of Appendix B of the Analysis). In addition, the proposed increases in the yelloweye rockfish ACL would allow for additional research opportunities to collect much-needed data to better inform stock assessments and management decisions (see Section B.1.3 of Appendix B of the Analysis).

Recreational fishing opportunities would have the greatest potential for expansion from this proposed action. For the recreational sectors in communities off Washington, Oregon, and California, the proposed change to the rebuilding plan and higher ACLs would allow shorter periods of time with depth restrictions in place and access to deeper depths during seasons with depth restrictions. Allowing recreational fishermen to access additional fishing grounds should allow them to target a broader suite of stocks, such as yellowtail rockfish, lingcod, and chilipepper rockfish, while also reducing pressure on sensitive nearshore stocks such as black rockfish (see Section B.5.3 of Appendix B of the Analysis). This increase in recreational effort would especially benefit the communities of Neah Bay, WA; Winchester Bay, OR; and Fort Bragg, CA, which are highly dependent on recreational opportunities (see Section B.5 of Appendix B of the Analysis).

D. Summary of ACL Changes From 2018 to 2019-20

Table 5 compares the ACLs for major stocks for 2018, 2019, and 2020. Due to proposed changes in stock complex composition, not all stocks are shown below. Many stocks would have higher ACLs in 2019 and 2020 than in 2018. The only stock that would have an ACL more than 10 percent below the 2018 ACL is starry flounder. The change in stock abundance for starry flounder is largely driven by a change in the way the stock is assessed, which better accounts for the uncertainty in the stock status of this data poor stock. As a result, for 2019-20, starry flounder has a more precautionary OFL, ABC, and ACL. Overall attainment of starry flounder has been low in recent years, so this change is not expected to have a substantial impact on the fleet (see Section A.3.4 of Appendix A of the Analysis).

Table 5—ACLs for Major Stocks for 2018, 2019, and 2020
[Overfished stocks are capitalized]
Stock | Area | 2018 ACL (mt) | 2019 ACL (mt) | 2020 ACL (mt) | Percent change 2018 to 2019
COWCOD | S of 40°10′ N lat | 10 | 10 | 10 | 0
YELLOWEYE ROCKFISH | Coastwide | 20 | 48 | 49 | 140
Arrowtooth Flounder | Coastwide | 13,743 | 15,574 | 12,750 | 13
Big Skate | Coastwide | 494 | 494 | 494 | 0
Black Rockfish | California (S of 42° N lat.) | 332 | 329 | 326 | −1
Black Rockfish | Washington (N of 46°16′ N lat.) | 301 | 298 | 297 | −1
Bocaccio a | S of 40°10′ N lat | 741 | 2,097 | 2,011 | 183
Cabezon | California (S of 42° N lat.) | 149 | 147 | 146 | −1
California Scorpionfish | S of 34°27′ N lat | 150 | 313 | 307 | 108
Canary Rockfish | Coastwide | 1,526 | 1,450 | 1,368 | −5
Chilipepper Rockfish | S of 40°10′ N lat | 2,507 | 2,536 | 2,410 | 1
Darkblotched Rockfish a | Coastwide | 653 | 765 | 815 | 17
Dover Sole | Coastwide | 50,000 | 50,000 | 50,000 | 0
English Sole | Coastwide | 7,537 | 10,090 | 10,135 | 34
Lingcod | N of 40°10′ N lat | 3,110 | 4,871 | 4,541 | 57
Lingcod | S of 40°10′ N lat | 1,144 | 1,039 | 869 | −9
Longnose skate | Coastwide | 2,000 | 2,000 | 2,000 | 0
Longspine Thornyhead | N of 34°27′ N lat | 2,747 | 2,603 | 2,470 | −5
Longspine Thornyhead | S of 34°27′ N lat | 867 | 822 | 780 | −5
Pacific Cod | Coastwide | 1,600 | 1,600 | 1,600 | 0
Pacific Ocean Perch a | N of 40°10′ N lat | 281 | 4,340 | 4,229 | 1444
Petrale Sole | Coastwide | 3,013 | 2,908 | 2,845 | −3
Sablefish | N of 36° N lat | 5,475 | 5,606 | 5,723 | 2
Sablefish | S of 36° N lat | 1,944 | 1,990 | 2,032 | 2
Shortbelly Rockfish | Coastwide | 500 | 500 | 500 | 0
Shortspine Thornyhead | N of 34°27′ N lat | 1,698 | 1,683 | 1,669 | −1
Shortspine Thornyhead | S of 34°27′ N lat | 898 | 890 | 883 | −1
Spiny Dogfish | Coastwide | 2,083 | 2,071 | 2,059 | −1
Splitnose Rockfish | S of 40°10′ N lat | 1,761 | 1,750 | 1,731 | −1
Starry Flounder | Coastwide | 1,282 | 452 | 452 | −65
Widow Rockfish | Coastwide | 12,655 | 11,831 | 11,199 | −7
Yellowtail Rockfish | N of 40°10′ N lat | 6,002 | 5,997 | 5,716 | 0
a Stock was declared rebuilt in 2017.

III. Management Measures

This section describes biennial fishery harvest guidelines and set-asides used to further allocate the ACLs to the various components on the fishery, routine management measures to control fishing, and new management measures proposed for 2019-20. Routine management measures for the commercial fishery modify fishing behavior during the fishing year to ensure that catch is constrained below the ACL, and include trip and cumulative landing limits, time/area closures, size limits, and gear restrictions. Routine management measures for the recreational fisheries include bag limits, size limits, gear restrictions, fish dressing requirements, and time/area closures. New management measures proposed for the 2019-20 biennial cycle would work in combination with current management measures to control fishing effort/activity.

A. Deductions From the ACLs

Before making allocations to the primary commercial and recreational components of groundfish fisheries, the Council recommends “off-the-top deductions,” or deductions from the ACLs to set aside fish for certain types of activities. Off the top deductions account for four distinct sources of groundfish mortality: Harvest in Pacific Coast treaty Indian tribal fisheries; harvest in scientific research activities; harvest in non-groundfish fisheries (incidental catch); and harvest that occurs under exempted fishing permits (EFPs). These off-the-top deductions are proposed for individual stocks or stock complexes and can be found in the footnotes to Tables 1a and 2a to part 660, subpart C.

B. Stock Complex Composition Restructuring

The Council recommended, and NMFS is proposing, modifications to the existing stock complexes used for harvest specifications and management that would create three new stock complexes. Changes in the composition of stock complexes do not affect the underlying harvest specifications because the stock complex ACL is simply the sum of the constituent stocks' specifications. The stocks in the proposed stock complex restructuring are predominately shallow water nearshore stocks that occur primarily within state waters. Nearly all the removals for these stocks are attributed to the recreational and commercial nearshore fisheries that are subject to joint state and Federal management.

The first modification would remove Oregon blue/deacon rockfish (BDR) from the Nearshore Rockfish complex north of 40°10′ N latitude and pair it with Oregon black rockfish to form a new Oregon black/BDR complex. The second modification would remove Oregon and Washington kelp greenling and Washington cabezon from the Other Fish complex to form two new stock complexes: An Oregon Kelp Greenling/Cabezon Complex and a Washington Kelp Greenling/Cabezon Complex. The objectives of the stock complex proposals are: (1) Better alignment of stocks per the complex goals and definitions as defined in the PCGFMP and National Standard 1 of the Magnuson-Stevens Act; (2) reduced management complexity; and 3) enhanced management flexibility (e.g., greater ability to take inseason actions). These proposed changes to stock complex composition better comply with the National Standard 1 guidelines, which recommend stocks managed in a stock complex “should have a similar geographic distribution, life history characteristics, and vulnerabilities to fishing pressure such that the impact of management actions on the stocks is similar.” These complex proposals pertain primarily to the commercial nearshore and recreational fisheries, as these are shallow water stocks infrequently encountered by the trawl sectors or other fisheries.

Oregon Black/Blue/Deacon Rockfish Complex

The Council recommended removing Oregon BDR rockfish from the Nearshore Rockfish complex north of 40°10′ N. latitude, and pairing it with Oregon black rockfish, which is currently managed individually, to form a new Oregon black/BDR complex. Note that blue and deacon rockfish are separate stocks, but they are referred to collectively since they were assessed together and therefore have joint harvest specifications. Blue/deacon rockfish are more frequently found in the middle of the water column, whereas the other stocks in the Nearshore Rockfish complex are more strongly associated with benthic habitats. Oregon black rockfish is an important target fishery, especially in the recreational sector. As detailed in Section C.3 of Appendix C of the Analysis, this proposed action would better align management of Oregon BDR rockfish with black rockfish, a stock that is also a midwater stock and often co-occurs with BDR rockfish. The proposed action would provide more targeted management of Oregon BDR rockfish by moving Oregon BDR from a larger stock complex to a much smaller one. However, this action could have the potential to provide less targeted management for black rockfish by moving it from individual management into a complex. The risk of less targeted management would be that catch could exceed the stock's ACL contribution while remaining under the overall complex ACL.

As a measure to prevent negative effects on black rockfish as a result of moving it into a complex, the Council recommended and NMFS is proposing an HG for the stock at its ACL contribution level to the complex. For 2019, the HG would be 515.8 mt, and for 2020, 512.2 mt. Additionally, as discussed in Section 4.3.1.3 of the Analysis, Oregon Department of Fish and Wildlife (ODFW) intends to implement mitigation measures to prevent any change in the risk of overfishing for Oregon black rockfish. These measures include establishing and managing catch against state harvest guidelines for the component stocks of the new BDR complex, shortening the state catch reporting time lag from one month to one week to allow for rapid state-level management response, and revising ODFW inseason catch projection methods to better monitor rapid periodic increases in recreational fishing effort. ODFW has also proposed action within its state regulations to reduce its aggregate state recreational bag limit from seven to five fish per day, which could slow the overall catch rate during the recreational season. Finally, NMFS's recent approval of longleader fishing gear for use in waters off Oregon (83 FR 13428; March 29, 2018) could shift some fishing effort away from black rockfish and towards underutilized midwater stocks, primarily widow and yellowtail rockfish. If this change to the stock complex structure is approved, these additional measures would ensure a level of management scrutiny for black rockfish similar to the level it would receive if it were managed individually.

Other Fish Complex

The Other Fish complex originated as a compilation of stocks that did not match well with other complexes. Because the complex is composed of biologically dissimilar stocks (e.g., ratfish, skates, sharks, grenadier, greenling, cabezon, and codling), the grouping has not supported practical management of its component stocks. Over time, the Council has redesignated some stocks in the original complex as ecosystem components, or has removed some stocks from the complex for individual management (e.g., big skate, 82 FR 9634; February 7, 2017). This proposed action would remove three stocks from the Other Fish complex and incorporate them into two new complexes to allow for more accurate management of these stocks. This action would also require the addition of scientific sorting requirements for the limited entry trawl, limited entry fixed gear, and open access fixed gear. These sorting requirements would allow proper accounting of the catch of component stock in these new complexes separate from the Other Fish complex.

Oregon Kelp Greenling/Cabezon Complex

This proposed action would remove Oregon kelp greenling from the Other Fish complex and pair it with Oregon cabezon, which is currently managed individually, to create the Oregon Kelp Greenling/Cabezon Complex. This proposed action was recommended because these stocks share a greater similarity to each other (e.g., both are solitary nearshore stocks that often co-occur) compared to the other stocks within the Other Fish complex. As a measure to prevent any increase in the risk of overfishing for cabezon as a result of moving it into a complex, the Council recommended and NMFS is proposing a HG for the stock at its ACL contribution level to the complex. For 2019 and 2020, the HG would be 46.8 mt. The mitigation measures ODFW intends to implement for the Oregon black/BRD complex, described above, would similarly help prevent adverse effects on cabezon from moving from individual management into a stock complex.

Washington Kelp Greenling/Cabezon Complex

This proposed action would remove Washington kelp greenling and Washington cabezon from the Other Fish complex to form a Washington Kelp Greenling/Cabezon Complex. In Washington, kelp greenling and cabezon are retained in recreational groundfish fisheries. They are nearshore stocks that are generally not targeted and often co-occur. As both of the stocks are currently managed within a larger complex, moving them to their own complex would provide more targeted management. As part of this proposed action, the Washington Department of Fish and Wildlife would be better able to implement inseason management actions for these stocks, if needed.

C. Biennial Fishery Allocations

The Council recommends two-year trawl and nontrawl allocations during the biennial specifications process for all stocks without long-term allocations or stocks where the long-term allocation is suspended because the stock is declared overfished. For all stocks, except sablefish north of 36° N lat., the Council recommends allocations for the trawl and nontrawl sectors based on the fishery harvest guideline. The fishery harvest guideline is the tonnage that remains after subtracting the off-the-top deductions described in section III (Management Measures), A, entitled “Deductions from the ACLs,” in this preamble. The two-year allocations and recreational harvest guidelines are designed to accommodate anticipated mortality in each sector as well as variability and uncertainty in those mortality estimates. Allocations described below are detailed in the harvest specification tables appended to 50 CFR part 660, subpart C in the regulatory text of this proposed rule.

Big Skate

The Council recommended and NMFS is proposing the allocations shown in Table 6 for big skate in 2019 and 2020. These allocations are anticipated to accommodate estimates of mortality of big skate, by sector, in 2019-20.

Table 6—2019 and 2020 Trawl/Nontrawl Allocations of Big Skate
| Percentage | Allocation (mt)
Nontrawl | 5 | 22.6
Trawl | 95 | 429.5

Bocaccio

Bocaccio was declared rebuilt since last biennium. The Council recommended and NMFS is proposing the allocations shown in Table 7 for bocaccio in 2019 and 2020. These allocations are anticipated to accommodate estimates of mortality of bocaccio, by sector, in 2019-20 and address the stock's newly rebuilt status.

Table 7—2019 and 2020 Allocations of Bocaccio
| 2019 HG (mt) | 2020 HG (mt)
Trawl | 800.7 | 767.1
Non-nearshore | 382.0 | 366.0
Nearshore | 4.8 | 4.6
California recreational | 863.4 | 827.2

Canary Rockfish

The Council recommended and NMFS is proposing the allocations in Table 8 for canary rockfish in 2019 and 2020. These allocations are anticipated to accommodate estimates of mortality of canary rockfish, by sector, in 2019-20, and maintain the same allocation scheme as in 2018.

Table 8—2019 and 2020 Allocations of Canary Rockfish
| 2019 HG (mt) | 2020 HG (mt)
Shorebased IFQ Program | 953.6 | 894.3
At-sea Sectors | 46 | 46
Catcher/processor | 16 | 16
Mothership | 30 | 30
Non-nearshore | 43.8 | 41.2
Nearshore | 94.3 | 88.7
Washington recreational | 47.1 | 44.3
Oregon recreational | 70.7 | 66.5
California recreational | 127.3 | 119.7

Cowcod

For 2019-20, the Council recommended and NMFS is proposing setting a cowcod ACT at 6 mt, and having it function as a fishery harvest guideline similar to the ACT in the 2017-18 biennium; it is the amount that would be allocated across groundfish fisheries. Table 9 shows the trawl/nontrawl allocations for cowcod for 2019 and 2020. NMFS anticipates the proposed allocation structure will keep catch below the 2019-20 cowcod ACT, and NMFS maintains the same allocation scheme as in 2018.

Table 9—2019 and 2020 Trawl/Nontrawl Allocations of Cowcod
| Percentage | Allocation (mt)
Nontrawl | 36 | 2.2
Trawl | 64 | 3.8

Longnose Skate

The Council recommended and NMFS is proposing the trawl/nontrawl allocations for longnose skate in Table 10. The allocation percentages reflect historical catch of longnose skate in the two sectors, and NMFS maintains the same allocation scheme that was in place for longnose skate in 2018.

Table 10—2019 and 2020 Trawl/Nontrawl Allocations of Longnose Skate
| Percentage | Allocation (mt)
Nontrawl | 10 | 185.2
Trawl | 90 | 1,666.5

Minor Nearshore Rockfish

Harvest specifications for Minor Nearshore Rockfish north of 40°10′ N lat. are proposed to decrease from the 103.2 mt in 2017-18 to 81 mt in 2019 and 92 mt in 2020 due to the proposed removal of Oregon black rockfish from the complex.

The states intend to manage catch using state-specific harvest guidelines: 18.6 mt for Washington; 23.2 mt for Oregon, and 36.6 mt for California for 2019. For 2020, 18.3 mt for Washington; 23.0 mt for Oregon, and 37.9 mt for California. However, instead of implementing state specific harvest guidelines in Federal regulations, the state Council representatives from Oregon and Washington committed to heightened inseason communication regarding catches of stocks managed in the complex, relative to the harvest guidelines, consistent with the current state coordinated management. Under state management, landed component stocks within the Minor Nearshore Rockfish complex must be sorted by stock. Because the states may also take inseason action independent of NMFS, the proposed action is not anticipated to result in exceeding the complex ACL in 2019-20.

Minor Shelf Rockfish

Allocations for Minor Shelf Rockfish are recommended by the Council and proposed by NMFS for each biennial cycle. The proposed allocations for 2019 and 2020 are shown in Table 12. This maintains the same allocation percentages as have been in place for the Minor Shelf Rockfish complexes since 2011.

Table 12—Trawl/Nontrawl Allocations for Minor Shelf Rockfish North and South of 40°10′ N lat.
|  | Percentage | 2019 HG | 2020 HG
Minor Shelf Rockfish north of 40°10′ N lat | Trawl Nontrawl | 60.2 39.8 | 1,190 786.9 | 1,186.6 784.5
Minor Shelf Rockfish south of 40°10′ N lat | Trawl Nontrawl | 12.2 87.8 | 188.6 1,357.3 | 188.6 1,357.3

Minor Slope Rockfish

Minor Slope Rockfish were allocated between the trawl and nontrawl fisheries in PCGFMP Amendment 21. This action applies those Amendment 21 allocation percentages to the updated 2019-20 fishery harvest guidelines. Blackgill rockfish in California was assessed in 2011 and has continued to be managed within the Minor Slope Rockfish complex, but with a stock-specific HG south of 40°10′ N lat. beginning in 2013. For 2019-20 the Council recommended a blackgill rockfish harvest guideline equal to the ABC contribution for the portion of the stock south of 40°10′ N lat.; this harvest guideline is 159 mt for 2019 and 2020.

D. Tribal Fisheries

Tribes implement management measures for Tribal fisheries both independently as sovereign governments and cooperatively with the management measures in the Federal regulations. The Tribes may adjust their Tribal fishery management measures inseason to stay within the Tribal harvest targets and estimated impacts to overfished stocks. The only change to Tribal harvest targets and management measures proposed for the 2019-20 biennium is an increase in the petrale sole harvest target from 220 mt to 290 mt.

The Tribes proposed trip limit management in Tribal fisheries for 2019-20 for several stocks, including several rockfish stocks and stock complexes. This rule proposes maintaining the same trip limits for Tribal fisheries as those in place in 2018. For rockfish stocks, Tribal regulations will continue to require full retention of all overfished rockfish stocks and marketable non-overfished rockfish stocks. The Tribes will continue to develop management measures, including depth, area, and time restrictions, in the directed Tribal Pacific halibut fishery in order to minimize incidental catch of yelloweye rockfish.

E. Routine Modifications to the Boundaries Defining Rockfish Conservation Areas

Rockfish Conservation Areas (RCAs) are large area closures intended to reduce the catch of a stock or stock complex by restricting fishing activity at specific depths. The boundaries for RCAs are defined by straight lines connecting a series of latitude and longitude coordinates that approximate depth contours. These sets of coordinates, or lines, are not gear or fishery specific, but can be used in combination to define an area. NMFS then implements fishing restrictions for a specific gear and/or fishery within each defined area.

For the 2019-20 biennium, the Council recommended minor adjustments to the 75 fathom (fm) (137 m), 100 fm (183 m), 125 fm (229 m), and 150 fm (274 m) depth contours off of California to more accurately refine the depth contours. These proposed modifications would adjust boundaries for RCAs around Santa Cruz Island, Spanish Canyon, Delgada Canyon, Cordell Bank, Point Ano Nuevo, San Miguel Island, and Anacapa Island.

Additionally, this proposed rule would correct the coordinates for the 125 fm (229 m) depth contour recommended by the Council in June 2017 around Usal Canyon and Noyo Canyon. The Council recommended these modifications to fix errors that were discovered during a previous change to the RCA line from 150 fm (274 m) to 125 fm (229 m) as part of the 2017-18 harvest specifications and management measures (82 FR 9634; February 7, 2017). When NMFS implemented changes to the RCA line, it was determined that the latitude and longitude coordinates for several areas were crossed over between 125 and 150 fathoms. These proposed changes would provide access to canyons that were previously open when the 150 fm (274 m) line was in effect, and which were intended to be open after the previous changes to the RCA line.

F. Limited Entry Trawl

Incidental Trip Limits for IFQ Vessels

For vessels fishing in the Shorebased IFQ Program, with either groundfish trawl gear or nontrawl gears, the following incidentally-caught stocks are managed with trip limits: Minor Nearshore Rockfish north and south, black rockfish, cabezon (46°16′ to 40°10′ N lat. and south of 40°10′ N lat.), spiny dogfish, shortbelly rockfish, big skate, Pacific whiting, and the Other Fish complex. For all stocks except big skate, this rule proposes maintaining the same IFQ fishery trip limits for these stocks for the start of the 2019-20 biennium as those in place in 2018. For big skate, the Council proposes reverting trip limits to those implemented at the start of the 2017-18 biennium. Trip limits for the IFQ fishery can be found in Table 1 North and Table 1 South to part 660, subpart D in the regulatory text of this proposed rule. Changes to trip limits are considered a routine measure under § 660.60(c), and may be implemented or adjusted, if determined necessary, through inseason action.

G. Limited Entry Fixed Gear and Open Access Nontrawl Fishery

Management measures for the limited entry fixed gear (LEFG) and open access (OA) nontrawl fisheries tend to be similar because the majority of participants in both fisheries use hook-and-line gear. Management measures, including area restrictions and trip limits in these nontrawl fisheries, are generally designed to allow harvest of target stocks while keeping catch of overfished stocks low. For the 2019-20 biennium, changes to management measures include: changes to trip limits for sablefish, minor slope rockfish and darkblotched rockfish, canary rockfish, lingcod, shortspine rockfish, and longspine rockfish. Proposed 2019-20 trip limits for these changes are specified in Table 2 (North), Table 2 (South) to subpart E for LEFG and in Table 3 (North) and Table 3 (South) to subpart F for OA in the regulatory text of this proposed rule.

Sablefish Trip Limits

Sablefish are managed separately north and south of 36° N lat. For the portion of the stock north of 36° N lat., the Council recommended and NMFS is proposing raising the trip limits for the LEFG fleet from those in 2018 between 75 to 100 lb (34 to 45 kg) a week depending on the period of the year. For the OA fleet, the trip limits would be the same as in 2018. For the portion south of 36° N lat., the Council recommended the limited entry and open access trip limits remain the same as those in 2018. The proposed sablefish trip limits for 2019-20 are shown in Table 13.

Table 13—Sablefish Trip Limits for Limited Entry and Open Access Sectors North and South of 36° N Lat.
Sector | Area | Jan-Feb | Mar-Apr | May-Jun | Jul-Aug | Sept-Oct | Nov-Dec
Limited entry | north of 36° N lat | 1,200 lb/week; not to exceed 3,600 lb bi-monthly.
| south of 36° N lat | 2,000 lb/week.
Open Access | north of 36° N lat | 300 lb daily, or one landing per week up to 1,000 lb, not to exceed 2,000 lb bi-monthly.
| south of 36° N lat | 300 lb daily, or 1 landing per week up to 1,600 lb, not to exceed 3,200 lb bimonthly.

Minor Slope Rockfish and Darkblotched Rockfish Trip Limits

In the 2017-18 biennium, the trip limit for minor slope rockfish and darkblotched rockfish for the OA sector was linked to the landed weight of sablefish for the trip. The current trip limit for minor slope rockfish and darkblotched rockfish north of 40°10′ N lat. is no more than 25 percent of the landed weight of sablefish per trip, which corresponds to a maximum of 500 lb (227 kg) bi-monthly (25 percent of the 2,000 lb (907 kg) bi-monthly limit of sablefish). This is an aggregate limit for all stocks combined. For 2019-20, the Council proposed and NMFS is recommending decoupling this limit from the landed weight of sablefish and instead creating a stand-alone trip limit for minor slope rockfish and darkblotched rockfish of 500 lb (227 kg) per month (all stocks combined). The new limit would be double the current limit. The Council recommended and NMFS is proposing the new trip limit structure because it would be simpler for OA participants to abide by and would better allow them to retain more, and discard less, of their incidental catches.

Canary Rockfish Trip Limits

The Council recommended and NMFS is proposing that canary rockfish retention would be permitted in the LEFG sector between 40°10′ N latitude and 34°27′ N latitude, with a trip limit of 300 pounds per two months. For the area south of 34°27′ N latitude, the trip limit would be the same, except for a closure during Period 2 (March-April). For OA, the structure would be similar, with a 150 lb (68 kg) per two months limit, and a closure during Period 2 (March-April) south of 40°10′ N latitude. These proposed closures for the canary rockfish trip limits would align with the trip limit structure for the Minor Shelf Rockfish, Deeper Nearshore Rockfish, Shallow Nearshore Rockfish, California scorpionfish, and lingcod south of 40°10′ N lat. Establishing a canary rockfish bi-monthly trip limit that matches the Shelf Rockfish trip limit would provide a uniform approach for monitoring, management, and law enforcement. Table 14 shows the proposed trip limits for 2019 and 2020 for canary rockfish.

Table 14—Proposed Canary Rockfish Trip Limits for Limited Entry and Open Access Sectors
Sector | Area | Jan-Feb | Mar-Apr | May-Jun | Jul-Aug | Sept-Oct | Nov-Dec
Limited entry | N of 40°10′ N lat | 300 lb/2 months.
| 40°10′ N lat.—34°27′ N lat | 300 lb/2 months.
| S of 34°27′ N lat | 300 lb/2 months | CLOSED | 300 lb/2 months.
Open Access | N of 40°10′ N lat | 150 lb/2 months.
| S of 40°10′ N lat | 50 lb/2 months | CLOSED | 150 lb/2 months.

Lingcod Trip Limits

Lingcod is managed north and south of 40°10´ N lat. The Council recommends OFLs, ABCs, ACLs, and HGs separately for each of these stocks. Historically, the Council has also recommended trip limits for LEFG and OA for each of these two stocks. For 2019-20, the Council proposed and NMFS is recommending two separate LEFG and OA trip limits for lingcod north of 40°10´ N lat.: one set of trip limits for the area north of 42° N lat., and one set of trip limits for the area between 42° N lat. and 40°10´ N lat. The new latitude break would allow more flexibility for alternative management strategies by state agencies to promote fishing opportunity while staying within state-specific yelloweye rockfish shares. In addition, this new latitude break aligns with the 42° N lat. latitudinal break used in the stock assessment (see Section A.2.6 of Appendix A of the Analysis). This proposed rule would establish a trip limit for LEFG of 2,000 lb (907 kg) per 2 months for the area north of 42° N lat. and a trip limit of 1,400 lb (635 kg) per 2 months for the area between 42° N lat. and 40°10´ N lat. For OA, this rule would establish a trip limit of 900 lb (408 kg) per 2 months for the area north of 42° N lat., and a trip limit of 600 lb (272 kg) per 2 months for the area between 42° N lat. and 40°10´ N lat. Overall, the lingcod trip limits proposed for 2019-20 are higher than those in place in 2018, which is possible due to higher ACLs for co-occurring yelloweye rockfish. Table 15 below shows proposed trip limits for lingcod north of 40°10´ N lat.

Table 15—Proposed Lingcod Trip Limits North of 40°10′ N Lat.
Sector | Area | Jan-Feb | Mar-Apr | May-Jun | Jul-Aug | Sept-Oct | Nov-Dec
Limited entry | North of 42° N lat | 2,000 lb/2 months.
| 42° N Lat. to 40°10´ N lat | 1,400 lb/2 months.
Open access | N of 42° N lat | 900 lb/month.
| 42° N Lat. to 40°10´ N lat | 600 lb/month.

For lingcod south of 40°10´ N lat., ACLs for the 2019-20 biennium are lower compared to 2018. Therefore, this rule proposes reductions to lingcod trip limits for both LEFG and OA. Table 16 below shows proposed trip limits.

Table 16—Proposed Lingcod Trip Limits South of 40°10´ N Lat.
Sector | Area | Jan-Feb | Mar-Apr | May-Jun | Jul-Aug | Sept-Oct | Nov-Dec
Limited entry | 200 lb/2 months | CLOSED | 800 lb/2 months | 1,200 lb/2 months |  | 600 lb/ month | 300 lb/ month.
Open Access | 300 lb/month | CLOSED | 300 lb/month.

Shortspine and Longspine Rockfish Trip Limits

Retention of shortspine and longspine thornyheads is currently prohibited year-round for the OA sector north of 34°27´ N lat. This proposed rule would provide a 50 lb (23 kg) per month trip limit for shortspine and longspine thornyheads north of 40°10´ N lat. only. Retention would continue to be prohibited for OA from 40°10´ N lat. to 34°27´ N lat. The Council recommended and NMFS is proposing this trip limit based on an industry recommendation to allow retention of incidental catches. The current retention prohibition is likely a holdover from when there were separate LEFG and OA allocations of thornyheads under the nontrawl allocation. OA attainment of longspine and shortspine thornyheads north of 34°27´ N latitude would be expected to remain low under this proposed rule, as they continue to be an incidental catch rather than a targeted stock.

Primary Sablefish Tier Limits

Some limited entry fixed gear permits are endorsed to receive annual sablefish quota, or tier limits. Vessels registered with one, two, or up to three of these permits may participate in the primary sablefish fishery. The proposed tier limits are as follows: in 2019, Tier 1 at 47,637 lb (21,608 kg), Tier 2 at 21,653 lb (9,822 kg), and Tier 3 at 12,373 lb (5,612 kg). In 2020 and beyond, the following annual limits are in effect: Tier 1 at 48,642 lb (22,064 kg), Tier 2 at 22,110 lb (10,029 kg), and Tier 3 at 12,634 lb (5,731 kg).

H. Recreational Fisheries

This section describes the recreational fisheries management measures proposed for 2019-20. The Council primarily recommends depth restrictions and groundfish conservation areas (GCAs) to constrain catch within the recreational harvest guidelines for each stock. Most of the changes to recreational management measures are modifications to existing measures.

Washington, Oregon, and California each proposed, and the Council recommended, different combinations of seasons, bag limits, area closures, and size limits for stocks targeted in recreational fisheries. These measures are designed to limit catch of overfished stocks found in the waters adjacent to each state while allowing target fishing opportunities in their particular recreational fisheries. The following sections describe the recreational management measures proposed in each state.

Washington

The state of Washington manages its marine fisheries in four areas: Marine Area 1 extends from the Oregon/Washington border to Leadbetter Point; Marine Area 2 extends from Leadbetter Point to the mouth of the Queets Rivers; Marine Area 3 extends from the Queets River to Cape Alava; and Marine Area 4 extends from Cape Alava to the Sekiu River. This proposed rule would align the lingcod season in Marine Area 4 with the recreational groundfish season and the lingcod season in Marine Areas 1-3. This adjustment would allow for an additional month of fishing in Marine Area 4 compared to 2018. Additionally, the proposed rule would allow retention of yellowtail and widow rockfish seaward of 20 fm (37 m) in July and August in Marine Areas 3 and 4. The aggregate groundfish bag limits off Washington would continue to be nine fish in all areas. However, the sub-bag limit for canary rockfish, previously 2 fish in all marine areas, would be removed, and the cabezon sub-bag limit would be changed from two fish per day to one fish for all marine areas. Additionally, this rule proposes removing the 18-in (45.7-cm) minimum size limit for cabezon in Marine Area 4. The Council recommended these changes, which allow more access to target stocks with fewer restrictions, supported by the proposed increases to the yelloweye rockfish ACL described in Section C of this rule.

Consistent with the 2017-18 biennium, the Council proposed continuing to prohibit recreational fishing for groundfish and Pacific halibut inside the North Coast Recreational Yelloweye Rockfish Conservation Area (YRCA), a C-shaped closed area off the northern Washington coast, the South Coast Recreational YRCA, and the Westport Offshore YRCA. Coordinates for YRCAs are defined at § 660.70.

Oregon

The Council proposed that Oregon recreational fisheries in 2019-20 would operate under the same season structures and GCAs as provided for 2017-18. This rule also proposes to allow all-depth fishing in April, May, and September. The Council's proposed expansions to fishing-depth access during these months is supported by the proposed increased yelloweye rockfish ACL, described in section II (Harvest Specifications) C, entitled, “Proposed ACLs for 2019 and 2020,” of this preamble. The Council proposed maintaining the 2017-18 aggregate bag limits and size limits in Oregon recreational fisheries. The proposed limits are: three lingcod per day, with a minimum size of 22 in (56 cm); 25 flatfish per day, excluding Pacific halibut; and a marine fish aggregate bag limit of 10 fish per day, where cabezon have a minimum size of 16 in (41 cm).

California

The Council manages recreational fisheries off of California in five separate management areas. Season and area closures differ between California management areas to limit incidental catch of overfished stocks while providing as much recreational fishing opportunity as possible. The Council's proposed California season structure includes additional time and depth opportunities, which are supported by the proposed increase to the yelloweye rockfish ACL described in Section C. Table 17 shows the proposed season structure and depth limits by management area for 2019 and 2020.

The Council recommended that size, bag, and sub-bag limits would remain the same as for 2018 for all stocks except for lingcod. To keep within allowable limits, the lingcod bag limit would be split into separate limits for north (42° N lat. (California/Oregon border) to 40°10′ N lat. (Northern Management Area)) and south (40°10′ N lat. to the U.S. border with Mexico (Mendocino Management Area, San Francisco Management Area, Central Management Area, and Southern Management Area)). The Council proposed maintaining the limit in the north area at 2 lingcod per day, but recommended reducing the limit in the south area to 1 lingcod per day (down from 2 in 2018). Additionally, this rule proposes to allow year-round retention of California scorpionfish in all management areas, which is supported by the proposed increase in the ACL for this stock in 2019-20 described in section II (Harvest Specifications), C, entitled “Proposed ACLs for 2019 and 2020,” in this preamble.

I. Salmon Bycatch Mitigation Measures

In December 2017, NMFS completed an Endangered Species Act (ESA) consultation on the continued implementation of the PCGFMP and published a Biological Opinion (available at http://www.pcouncil.org). As part of its proposed action for the consultation, the Council estimated Chinook and coho catch in the whiting and non-whiting groundfish fisheries. The Council estimated that the whiting sector (including tribal and non-tribal vessels in the mothership, catcher/processor (C/P), and Shoreside whiting fleets) would take 11,000 Chinook salmon and 474 coho salmon, and the non-whiting sector (including tribal and non-tribal vessels in the Shoreside trawl, fixed gear, and recreational fleets) would take 5,500 Chinook salmon and 560 coho salmon.

Additionally, the Council included in its proposed action a reserve amount of Chinook, 3,500 fish, in the event that bycatch increases unexpectedly. The reserve is a safeguard against catch exceeding the total Chinook take estimate, which is an immediate trigger for reinitiation under section 7 of the ESA. Either the whiting or non-whiting sector, or both sectors, may access the reserve in a given year, but the reserve is limited to 3,500 Chinook total. Access to the reserve is not guaranteed for either sector. Accessing the reserve in three out of any five consecutive years will also trigger reinitiation of the ESA consultation.

The incidental take statement (ITS) includes six reasonable and prudent measures (RPMs) that require the Council and NMFS to take certain actions to minimize take of endangered and threatened Chinook and coho salmon in Pacific Coast groundfish fisheries. These RPMs are non-discretionary, and were developed based on the Biological Opinion's analysis of the Pacific Coast groundfish fishery's interactions with salmon. The ITS provides terms and conditions (T&C) under each RPM that are also non-discretionary, and are required to implement each specific RPM. Actions performed in compliance with the terms and conditions of the ITS are not considered to be prohibited taking under the ESA.

The Biological Opinion required that specific T&Cs from the ITS must be considered within the 2019-20 biennial harvest specifications and management measures process. These include: (1) Review existing mechanisms in the PCGFMP and regulations for avoiding and reducing salmon bycatch to determine if these measures are adequate to allow for timely inseason management to keep the sectors from exceeding their bycatch guidelines (T&C 2.a); (2) develop and implement initial regulations governing the reserve of 3,500 Chinook salmon (T&C 3.a); and (3) develop automatic closure mechanisms if sectors exceed their bycatch guideline and/or the reserve (T&C 3.c).

At its March 2018 meeting, the Council's Groundfish Management Team (GMT) reviewed current monitoring provisions in the PCGFMP, existing mitigation measures, and historical industry bycatch avoidance tactics (see Section C.2 of Appendix C of the Analysis). Additionally, the GMT investigated salmon bycatch data by area, depth, and time for the whiting and non-whiting midwater trawl sectors to determine if depth restrictions would be effective for reducing salmon bycatch (see Section C.3 of Appendix C of the Analysis). As a result of that review, the Council recommended modifications to existing depth-based management tools for salmon bycatch mitigation and the creation of new depth-based management tools to meet T&C 2.a. The Council proposed: (1) Eliminating the Ocean Salmon Conservation Zone (OSCZ); (2) adding a new bycatch reduction area (BRA) at the 200 fm (366 m) depth contour for vessels using midwater trawl gear; (3) prohibiting the use of midwater trawls and require the use of selective flatfish trawls for any bottom trawl vessels in the Columbia River Salmon Conservation Zone (CRSCZ) and the Klamath River Salmon Conservation Zone (KRSCZ); and (4) implementing automatic closure mechanisms for the Chinook salmon bycatch guidelines and reserve. The Council and NMFS will continue to implement other terms and conditions in future rulemakings.

The proposed salmon bycatch mitigation measures would protect ESA-listed salmon species, and help maintain bycatch below the bycatch guideline limits described in the proposed action of the Biological Opinion. Three of the four proposed measures would benefit salmon by managing bycatch in the groundfish fisheries. The Council proposed removing the OSCZ because the Analysis suggested that this existing provision is ineffective for reducing salmon bycatch.

Ocean Salmon Conservation Zone

The OSCZ consists of all waters shoreward of a boundary line approximating the 100 fm (183 m) depth contour. When NMFS projects that the Pacific whiting fishery (tribal and non-tribal) may take in excess of 11,000 Chinook salmon within a calendar year, NMFS implements a coastwide closure in the OSCZ for all sectors (Pacific whiting IFQ fishery, the catcher/processor (C/P) sector, and the mothership sector) through automatic action. The OSCZ was first implemented as an emergency rule, effective from August 26, 2005, to February 27, 2006 (70 FR 51682; August 31, 2005) as a means to reduce Chinook salmon bycatch rates in nearshore areas. NMFS later permanently added the OSCZ as mechanism to limit Chinook salmon interactions in the whiting fishery during periods of high bycatch (71 FR 78657; December 29, 2006). NMFS has used this depth-based management tool only once since implementation. On October 20, 2014, NMFS closed the OSCZ to Pacific whiting vessels after determining the Pacific whiting fishery took over 11,000 Chinook salmon.

The GMT concluded through its review that the OSCZ provision is not an effective tool for salmon bycatch mitigation. Catch data from 2004 to 2017 demonstrates that, even in high bycatch years, Chinook salmon catch in the Pacific whiting fishery is not likely to reach the 11,000 fish threshold until the fall, around October. The C/P sector and the mothership sector have not fished in the depths within the OSCZ after October since 2011, and the Pacific whiting IFQ fishery has had minimal activity within the depths of the OCSZ after the fall (see section C.1.4 of Appendix C of the Analysis). Therefore, by the time the OSCZ would be triggered by Chinook bycatch in the groundfish fishery, none of the sectors would be fishing in the area that would be closed. For these reasons, NMFS proposes to remove the OCSZ provision from the regulations. Because this provision has limited utility as a bycatch management tool, NMFS does not expect any discernable effects from removing this provision from the regulations.

Bycatch Reduction Areas (BRAs)

BRAs are depth-based management provisions used to close waters shallower than a specified depth contour to fishing in order to minimize impacts to groundfish or any prohibited or protected species, such as salmon. Under current regulations, NMFS, in consultation with the Council and through the routine management process, can implement BRAs to close areas shoreward of the 75-, 100-, and 150-fm (137-, 183-, and 274-m) depth contours for a specific sector (i.e., C/P, mothership, whiting IFQ, and Shoreside IFQ Program non-whiting midwater). BRAs are also available through automatic action if a whiting sector is projected to reach or exceed a sector-specific groundfish allocation prior to attaining the whiting allocation. However, the 75-, 100-, and 150-fm (137-, 183-, and 274-m) BRAs are not currently available for salmon bycatch mitigation for any of the sectors and are not proposed to be modified through this action.

The Council recommended adding the 200-fm (366-m) depth contour as a BRA available for implementation through routine inseason action to mitigate salmon bycatch in any of the groundfish midwater trawl sectors. The groundfish midwater trawl sectors subject to this area closure would be the Pacific whiting IFQ fishery, the C/P sector, and the mothership sector, as well as the non-whiting midwater trawl sector, which primarily targets widow rockfish and yellowtail rockfish. If the Council and NMFS implemented the 200-fm (366-m) BRA during a fishing season, vessels using midwater trawl gear to target either whiting or non-whiting groundfish would be excluded from waters shoreward of the 200-fm (366-m) depth contour, but would still be allowed to fish in waters seaward of 200-fm (366-m). This action would only apply to non-tribal midwater trawl vessels. NMFS expects that the Tribes would implement area management measures to mitigate salmon bycatch, if necessary.

The Council and NMFS monitor the salmon bycatch rates of the fleet inseason. If any sector's bycatch rates exceed those considered in the Biological Opinion, the Council and NMFS could take inseason action to implement the BRA for any of the midwater trawl sectors. The effects of this proposed action would depend on these sectors' ability to fish in areas deeper than 200 fm (366 m). Section C.1.4 of Appendix C of the Analysis contains a description of the recent catch data by depth. The shoreside whiting trawl sector, and especially the non-whiting midwater trawl sector, would likely have limited or no ability to fish seaward of 200 fm (366 m) due to horsepower restrictions and because the catch targets (canary rockfish, widow rockfish, yellowtail rockfish) are primarily found in shallower depths. The sectors that would be unable to effectively operate if the proposed BRA were put into place would experience negative economic effects from this action. The level of economic impacts would depend on when the BRA was implemented. The non-whiting midwater trawl fishery typically lands a significant portion of its catch later in the year. Thus, if NMFS were to implement a BRA after October, a prohibition on fishing shoreward of 200 fm (366 m) could significantly reduce this fleet's landings of canary, yellowtail, and widow rockfish. As discussed in Section 4.3.1.1 of the Analysis, on average, the non-whiting midwater trawl fleet lands 25.8 percent of its target stocks from October to December.

The at-sea sectors have historically been able to fish seaward of 200 fm (366 m), but in limited capacity. The MS sector's capacity to fish seaward of 200 fm (366 m) is particularly limited. Additionally, data from the C/P and MS sector from 2011 to 2017 has shown higher amounts of incidental catch of spiny dogfish, yellowtail rockfish, and widow rockfish seaward of 200 fm (366 m), compared to shoreward of 200 fm (Section C.1.4 of Appendix C of the Analysis). Therefore, if NMFS implements the 200-fm (366-m) BRA and sectors choose to fish seaward of 200 fm (366 m) due to salmon bycatch concerns, there could be increased incidental catch of these stocks.

Incidental catch of widow rockfish by the at-sea sector is managed under an allocation, while catch of yellowtail rockfish is managed under a set-aside for the sector. Allocations are managed more closely than set-asides. If an allocation is exceeded, the fishery is closed. Set-asides are generally managed on an annual basis unless there is a risk of overall catch exceeding an ACL for the stock, unforeseen impacts on another fishery, or conservation concerns, in which case inseason action may be taken. The at-sea sector's catch of both of these stocks has been at or below allowable amounts in recent years. For yellowtail rockfish, the overall attainment of the ACL was around 50 percent, so even if at-sea catch increased, NMFS does not expect the risk of exceeding the ACL to change. Catch of spiny dogfish is managed under an HG for the entire Pacific Coast groundfish fishery, which ensures catch will remain below the ACL for this stock.

This proposed action, if approved, would use the existing regulations for inseason actions, which allow a single meeting process. If the Council and NMFS determine that any of the midwater trawl sectors is encountering Chinook salmon at a bycatch rate above that analyzed in the Biological Opinion, NMFS could issue a single Federal Register notice to implement the BRA, provided that waiver of notice and comment meet the requirements of the Administrative Procedure Act.

Columbia River Salmon Conservation Zone and the Klamath River Salmon Conservation Zone

This proposed action would also close the CRSCZ and the KRSCZ to all midwater trawling and to bottom trawling, unless vessels are using a selective flatfish trawl (SFFT). This action is a term and condition of the Biological Opinion. Under current regulations, vessels using midwater trawl gear in the Pacific whiting primary season are prohibited from fishing in the CRSCZ and the KRSCZ. This proposed action would extend the area prohibition to vessels using midwater trawl gear to target rockfish, including widow rockfish and yellowtail rockfish, a reemerging fishery following the rebuilding of widow rockfish in 2012.

Additionally, this proposed action would maintain protection for these areas that is currently included under a blanket requirement that groundfish trawl vessels use SFFT gear shoreward of the trawl RCA north of 40°10′ N lat. Both the CRSCZ and KRSCZ are located inside this area. NMFS proposed removing this blanket requirement in a separate proposed rule. This proposed action would reestablish the SFFT requirement inside the CRSCZ and KRSCZ.

Bycatch Guideline and Reserve Management

This proposed action would create a provision in the regulations to give NMFS automatic authority to close either or both of the whiting and non-whiting sector fisheries if: (1) Either sector catches its guideline limit and the reserve amount; or (2) either sector reaches its guideline limit when the other sector has already taken the reserve amount. The closure would be effective until the end of the fishing year on December 31. This proposed measure is a term and condition of the Biological Opinion. However, the Council and NMFS intend to use other available tools, including area management tools, to help manage salmon bycatch prior to guideline limits being taken, with the result of sectors being closed for the remainder of the fishing year.

The proposed action organizes the various sectors of the Pacific Coast groundfish fishery into one of two groupings: The whiting sector and the non-whiting sector. The whiting sector includes the tribal and non-tribal Pacific whiting IFQ fishery, the C/P sector, and the mothership sector. The non-whiting sector includes the tribal and non-tribal Shoreside IFQ Program, the LEFG fishery, the OA fishery, and the recreational fisheries off of Washington, Oregon, and California. The proposed action includes only select recreational fisheries that are not accounted for in pre-season salmon modeling. The recreational fisheries not accounted for in preseason salmon modeling are those occurring outside of the open salmon seasons and the Oregon longleader fishery. Any Chinook salmon bycatch in these fisheries must be attributed to the non-whiting threshold, and these fisheries are subject to potential closures. Chinook salmon bycatch from each fishery accrues to the larger sector (i.e., whiting or non-whiting) level. As described in the Biological Opinion, access to the reserve for additional Chinook salmon bycatch above the sector's guideline limit is not guaranteed. However, if one sector surpasses its guideline limit, it may be allowed to continue fishing, with additional salmon bycatch accounted for within the reserve. Under such a scenario, if the sector's bycatch reached the reserve limit, all fisheries within that sector would be subject to an automatic closure. If one sector is allowed to access the reserve in a given calendar year, then the other sector, upon reaching its guideline limit, would be subject to an automatic closure rather than potentially being able to access the reserve.

Under the existing regulations for automatic actions at § 660.60(d), a closure notice would be published in the Federal Register and be effective immediately for all fisheries within either or both of the whiting or non-whiting sectors. NMFS waives notice and comment under the Administrative Procedure Act if good cause exists. Section C.1.4 of Appendix C of the Analysis describes the effects of this proposed action on the whiting and non-whiting sectors under different scenarios, based on potential closures lasting from either October or December through the remainder of the fishing year. Under any of the closure scenarios, the effect on groundfish would be reduced landings and underattainment of the ACL for target stocks. The economic effects of this action are greatest under an October closure scenario, and are least under a December closure scenario.

The Analysis discusses that both the bottom trawl and non-whiting midwater trawl sectors typically have high catch after October. Section 4.3.1.1 estimates that an October closure would have the greatest effect on the C/P fleet because, on average, this fleet catches 45 percent of its whiting catch between October and the end of the year. Under the December closure scenario, the average percentage of target catch that could potentially be left unharvested ranges from 0.5 percent for the Shoreside whiting fleet to 13 percent for the nonwhiting midwater trawl fleet. Overall, Section C.4 of Appendix C of the Analysis estimates that a closure starting in October could have an economic impact of $138.6 million in income and 2,083 jobs for the Pacific Coast groundfish fishery as a whole, assuming no fishery effort substitutions to offset losses. For the low impact (December only closure) scenario, the Analysis estimates the impact to be losses of $24.6 million in income and 349 jobs.

Whether or not there will be an economic impact of a closure depends upon the likelihood that a closure would occur. Since 2002, when the West Coast Groundfish Observer Program (WCGOP) first began monitoring the groundfish fishery, the whiting sector (including the at-sea, shorebased, and tribal components) has taken more than 11,000 Chinook in two years, in 2005 and in 2014. In the non-whiting sector, the bottom trawl fleet takes the majority of the salmon bycatch. Since 2002, the bottom trawl fleet has taken more than 5,500 Chinook twice, in 2002 and 2003. Overall, over the last 15 years, there has never been a situation where both sectors exceeded their guideline levels at the same time. Therefore, NMFS believes that it is unlikely that a closure would be triggered. However, the closure mechanisms are a term and condition of the Biological Opinion and are, therefore, included in this proposed rule. Such a mechanism would serve to limit impact on listed salmon in extraordinary circumstances.

J. Modifications to Depth Restrictions Within the Western CCA

This proposed action would modify the allowed fishing depths from 20-fm (37-m) to 40-fm (73-m) for the commercial fixed gear fishery and the recreational fishery inside the Western Cowcod Conservation Area (CCA). This action would also add new waypoints approximating the 30-fm (55-m) and 40-fm (73-m) depth contours around Santa Barbara Island, San Nicolas Island, Tanner Bank, and Cortes Bank, because waypoints approximating these contours do not exist at these depths currently. Fisheries are allowed to operate in areas shallower than the depth limit. This proposed action is intended to allow additional opportunities for commercial fixed gear and recreational vessels to target healthy stocks (nearshore rockfish, shelf rockfish, cabezon, kelp greenling, California scorpionfish, and lingcod), while still closing the depths where the overall density of cowcod is the greatest to provide protections as the stock continues to rebuild.

The Council originally established two CCAs (Western and Eastern) in 2001 as area closures to promote cowcod rebuilding. These area closures prohibited fishing in the main portion of cowcod's depth range (overall distribution 22 to 270-fm (40 to 494-m), with the highest density from 100 to 130-fm (183 to 238-m)) to reduce encounters and mortality to allow the stock to rebuild more quickly. The Western CCA encompasses 5,126-mi² (13,276-km²) and is located in the Southern California Bight south of Point Conception. The CCA is also expected to provide protections for bronzespotted rockfish, a stock with similar life history characteristics, habitat associations, and vulnerability to fishing as cowcod. Commercial landings of bronzespotted dropped in the late 1980s and have remained at low levels from 1990 to present.

Under the current regulations, 40.4-mi² (104.6 km²) (or less than 1 percent of the entire CCA) is open to fishing due to the 20-fm (37-m) depth restriction. By increasing the depth to a 40-fm (73-m) depth restriction, this proposed rule would increase the fishable area to 150.4- mi² (389.5-km²).

In the 2009-10 biennial specifications and management measures, the Council recommended modifying the recreational depth restrictions inside the CCA to 30-fm (55-m). NMFS disapproved this recommendation in the final rule (76 FR 27508; May 11, 2011), because there was limited information on the impacts of the proposed action on cowcod, especially juvenile cowcod, which could delay rebuilding. NMFS also indicated that, because the ACL for cowcod was low (4 mt at that time), any measures that potentially increased cowcod mortality required better information on potential biological and economic effects. At the time of NMFS' disapproval, cowcod was at 4.5 percent of unfished biomass with a projected time to rebuild of 2071.

Since the 2009-10 disapproval, the NWFSC conducted a new stock assessment for cowcod (assessed in 2013). The 2013 assessment concluded that the stock is rebuilding much more quickly than anticipated under its rebuilding plan. Cowcod is expected to be rebuilt by 2020, assuming full removal of the ACL, which is 48 years ahead of the target end date for the rebuilding plan. Over the past several years, cowcod harvest has consistently been far below the ACL (see Section C.6 of Appendix C of the Analysis). As discussed in section III (Management Measures), C, entitled “Biennial Fishery Allocations,” of this preamble, NMFS is proposing to set the cowcod ACT at 6 mt for 2019-20.

The 2013 cowcod assessment explored ecosystem interactions and updated habitat preferences of juvenile cowcod based on research published since the previous full assessment in 2007. The stock assessment identified young of the year fish as being distributed between 52 and 277-m (28-151-fm), with juveniles found slightly deeper. NMFS survey data and recent catch data from observed trips inside the Western CCA encountered no cowcod (juvenile or adult) within the proposed depth openings (see Section C.6 of Appendix C of the Analysis). Overall, the proposed measure is not expected to result in increased cowcod encounters, because the highest densities of cowcod are found outside of the depths in which this measure would allow commercial fixed gear and recreational fishing. Additionally, the proposed measure is not expected to increase mortality for bronzespotted rockfish, because this stock is found between 41-fm (75-m) and 205-fm (375-m), which is outside the depth range of the proposed action.

The Council recommended this measure because the additional data on habitat usage from the 2013 stock assessment, the improved cowcod stock trajectory, and the higher ACT for cowcod demonstrate that there would be no adverse impacts expected for cowcod from this action. The expected benefits of this action for the commercial and recreational fleets are described separately below.

Commercial

This proposed action would allow greater access to valuable and underattained stocks in this remote area. Recent commercial fixed gear fishing effort has been very low within the Western CCA due to limited opportunities within the current depth restrictions. The proposed depth changes within the CCA would allow greater access to deeper stocks and would create an economic incentive for vessels to make trips to the area. NMFS expects that a modest increase in the number of fixed gear vessels fishing in this area may occur as a result of this proposed action; however the magnitude of increase is difficult to quantify. A redistribution of depth of catch is also expected as a result of the increased depths available for fishing. The effects on groundfish of any increase in effort would be limited through the existing 2-month trip limits delineated in Table 2 (South) to part 660.330.

Recreational

This proposed action would allow recreational fishing within the Western CCA out to 40 fathoms (73 m). NMFS expects this measure would increase the catch of target stocks, including shelf rockfish, bocaccio, deeper nearshore rockfish, and lingcod. The proposed action would also be expected to reduce pressure on shallower nearshore rockfish stocks by allowing access to currently inaccessible desirable nearshore (i.e., copper rockfish) and shelf rockfish (i.e., vermilion rockfish) found in deeper waters.

NMFS expects that this action would result in an increase in the number of angler trips, and an increase in the amount of recreational catch, and result in a redistribution of depth of catch. Allowing access to deeper depths inside the Western CCA is expected to increase the number of groundfish trips between 10 percent and 20 percent, particularly out of Ventura and Los Angeles, given the proximity of these ports to the Western CCA (see Section C.7 of Appendix C of the Analysis). This would provide additional revenues to charter boat crews in the form of fish processing and tips.

K. Modification of Lingcod and Sablefish Discard Mortality Rates

This rule proposes to modify the discard mortality rates (DMRs) for lingcod and sablefish used to debit IFQ accounts in the Shorebased IFQ Program. Currently, NMFS debits IFQ accounts for 100 percent of all catch of these stocks, regardless of survival after discarding. The Council recommended implementing lower discard mortality rates for lingcod and sablefish to match those endorsed by the SSC and used for year-end groundfish catch accounting. For many other stocks, the best scientific information available does not indicate discard survival rates high enough to warrant consideration of a survival credit. The DMRs in Table 18 reflect the best scientific information available.

Table 18—Proposed Discard Mortality Rates for Lingcod and Sablefish
Stock | Gear | Proposed DMR (percent)
Lingcod | Bottom trawl | 50
| Fixed gear ᵃ | 7
Sablefish | Bottom trawl | 50
| Fixed gear ᵃ | 20
ᵃ Applies to both pot and hook and line gear.

By providing IFQ participants with discard survival credits for lingcod and sablefish, this action better meets some of the objectives of the IFQ program, such as increased attainments of and increased value of IFQ stocks, such as Dover sole and thornyheads. In addition, this action aligns DMRs with those used in year-end catch accounting, which creates consistency in mortality estimates. This proposed action would allow modest increases in attainment of co-occurring target stocks, and increase marketability and value of retained catch by eliminating the need to retain small fish that are not economically marketable or desirable. Landings and mortality would be expected to increase proportionally by the amount of QP savings/gains the credit would provide, which for sablefish could be a gain of one-half the bottom trawl discards (9-21 mt per year) and four-fifths the fixed gear discards (11-20 mt per year), which could be converted into additional landings. Therefore, the resulting gains in landings of sablefish could be an extra 5-11 mt for bottom trawl and 9-16 mt for fixed gear, which would only be about a 1 percent increase in total coastwide IFQ mortality of this stock (see Section C.5 of Appendix C of the Analysis).

As described in Section C.5 of Appendix C of the Analysis, overall, this proposed action would not be expected to result in substantial changes to discarding behavior because there are operational costs for discarding in terms of labor time for sorting catch, extra fishing time necessary to replace the discarded fish, as well as the potential risk that further fishing will not result in catching larger fish. However, the resulting “savings” of trawl sablefish, due to a decreased deduction for discarded fish, could possibly increase landings of co-occurring, underattained stocks, such as Dover sole, shortspine thornyheads, and longspine thornyheads (see Section C.5 of Appendix C of the Analysis). Although this measure could increase attainment, IFQ participants' total fishing mortality would continue to be managed to individual and sector allocations, and catch would be constrained by the total ACL for each stock.

L. Removal of IFQ Daily Vessel Limits

Under the Shorebased IFQ Program, a quota share (QS) permit authorizes a person or group to own QS. A QS account is an account that contains QS allocations registered to the QS permit for IFQ and individual bycatch quota (IBQ) stocks. At the beginning of each calendar year, NMFS issues quota pounds (QPs) to each QS account based on the IFQ or IBQ sector allocation. For QPs to cover catch (landings and discards) by a vessel in the shorebased IFQ program, the QS permit owner must transfer QPs from the QS account to a vessel account. Vessel limits in vessel accounts restrict the amount of QPs that any vessel can catch or hold. NMFS calculates annual QP vessel limits, which are a set percentage of the total IFQ sector allocation based on formulas set through Amendment 20 to the PCGFMP. The annual vessel QP limit restricts the amount of used and unused QP in a vessel account during a fishing year.

NMFS also sets daily vessel limits for overfished stocks, which cap the amount of overfished stock QPs any vessel account can have available in their account on a given day. The Council and NMFS established daily vessel limits to prevent a person from acquiring additional QP from others before those QP are needed. IFQ sector allocations of some overfished stocks are low, which creates a strong incentive for hoarding of QP for these stocks to cover unexpected high catch events. This daily limit keeps QP of overfished stocks on the market and available for trading. The daily limits are set equal to the control limits for each stock, which limit the amount of QS and IBQ that a person, individually or collectively, may own or control. Because daily limits are set at the level of the QS control limits, they have no effect on those who only use QP from their own QS account.

Amendment 20 to the PCGFMP intended for daily limits to apply for overfished stocks. This means that when stocks are declared rebuilt, the daily limit for that stock must be removed through rulemaking. In the 2017-18 biennium, bocaccio (south), darkblotched rockfish, and Pacific ocean perch were declared rebuilt, so this action proposes to remove the daily limits for these stocks. However, because the daily vessel limit has been ineffective for keeping catch available for trading, this rule proposes to eliminate the daily limits for all stocks. Thus, in addition to bocaccio (south), darkblotched rockfish, and Pacific ocean perch, this rule also proposed to remove daily vessels limits for cowcod (south), yelloweye rockfish, and Pacific halibut.

As explained in in Section C.5 of Appendix C of the Analysis, there may be strategies to circumvent the daily vessel limit. First, vessel owners can sign sales contracts in advance, but delay transferring QP for a stock until a vessel account's unused QP drops below the daily limit. Second, entities can temporarily acquire trawl permits and use them to establish a second vessel account in which they can store QP.

There is also evidence that the daily limit is not constraining for several stocks. Table C-65 in the Analysis indicates that for the remaining overfished stocks and Pacific halibut, from 2011 through 2017, there has been only one instance of a vessel landing more than the daily limit. For the recently rebuilt stocks, there has generally been at least one vessel landing more than the daily limit each year for Pacific ocean perch, but this has rarely occurred for bocaccio and darkblotched rockfish since the start of the Shorebased IFQ Program. Because the daily limits for the remaining overfished stocks and for Pacific halibut have not been constraining, NMFS expects that eliminating this provision would not have a measurable effect on the fishery.

M. Removal of Automatic Authority for Darkblotched Rockfish and Pacific Ocean Perch Set-Asides for At-Sea Sector

Amendment 21 to the PCGFMP (75 FR 60867; October 1, 2010) established allocations for darkblotched rockfish and Pacific ocean perch catch in the at-sea sector (C/P and mothership sectors). At that time, darkblotched rockfish and Pacific ocean perch were overfished, and the ACLs and fishery allocations for these stocks were low. NMFS has authority to take automatic action to close the at-sea sector, if necessary, to ensure that darkblotched rockfish and Pacific ocean perch stays below the allocation. In recent years, both of the at-sea sectors have exceeded their allocations of darkblotched rockfish (the C/P sector in 2011, and the mothership sector in 2014). The latter resulted in an emergency Council meeting, and NMFS took emergency action to reopen the fisheries (79 FR 67095; November 12, 2014). However, because the overall attainment of the darkblotched rockfish ACL had been low, the Council recommended and NMFS approved Amendment 21-3 to the PCGFMP (83 FR 757; January 8, 2018). Amendment 21-3 replaced the at-sea sector Pacific ocean perch and darkblotched rockfish allocations with sector-specific set-asides with a reserve for the C/P and mothership sectors. The allocation for the at-sea sectors is a percentage of the trawl allocation of each stock.

Set-asides are managed on an annual basis unless there is a risk of catch exceeding a harvest specification (ACL, ACT, or HG) inseason, unforeseen impact on another fishery, or conservation concerns, in which case inseason action may be taken. Amendment 21-3 also included a reserve, or buffer, for set-asides. The buffer is an amount deducted from the ACL as part of the process of determining the fishery HG (which serves as the basis of allocating between trawl and nontrawl fisheries), and is intended to account for higher than expected incidental catch. The buffer for darkblotched rockfish and Pacific ocean perch was established under Amendment 27 to the PCGFMP (82 FR 9634; February 7, 2017). NMFS has the authority to close either at-sea sector if it is projected to exceed its set-aside value, taking into account the buffer, for either darkblotched rockfish or Pacific ocean perch.

Darkblotched rockfish and Pacific ocean perch have both been declared rebuilt. The proposed 2019-20 ACLs for both stocks are higher, reflecting the change in stock status. In addition, because of the change in stock status, there is currently no buffer proposed for 2019-20. Because of these changes, darkblotched rockfish and Pacific ocean perch would be managed as de facto allocations for the at-sea sectors. This proposed rule would remove NMFS's automatic authority to close either sector if they exceed their set-aside value for these stocks, so that they are managed like all other at-sea set-asides in the PCGFMP. The Analysis demonstrates that the expected risk of the at-sea sectors exceeding their set-aside values for darkblotched rockfish and Pacific ocean perch is low, due to low overall attainment in the trawl sector in recent years. In addition, because this proposed adjustment would remove the risk of shutting down the fishery after reaching the set aside, it increases the likelihood that the at-sea sectors could attain their Pacific whiting allocation (see Section C.4 of Appendix C of the Analysis).

N. Continuation of Adaptive Management Pass Through

Under the Amendment 20 Trawl Rationalization Program, NMFS reserves 10 percent of the QS for each of the non-whiting stocks (including halibut individual bycatch quota) each year for an adaptive management program. While the Council has never used the allocation for this purpose, conceptually, an adaptive management program could distribute the reserved QP to fishery participants to address adverse effects of the Shoreside IFQ program, including impacts to community or processor stability, conservation concerns, or other effects. NMFS could also distribute the reserved QPs to facilitate new entrants to participate in the groundfish fishery. To date, the Council has not recommended establishing an adaptive management program. Therefore, NMFS has distributed (passed through) these QP to quota shareholders each fishing year in proportion to their QS for each stock. This rule proposes that NMFS will continue to pass through the QP reserved for the adaptive management program until the Council recommends an alternative use of adaptive management program QP. This is an administrative measure that would not affect fishing opportunity and related catch.

O. Modification of the Incidental Lingcod Retention Ratio in the Salmon Troll Fishery

This proposed action would adjust the existing incidental retention ratio for landing lingcod based on the number of Chinook landed in the ocean salmon troll fishery in the area north of 40° 10' N. latitude. The purpose of the ratio is to allow salmon trollers to retain incidentally caught lingcod, but to discourage lingcod targeting. Currently, participants are allowed to retain 1 lingcod per 15 Chinook salmon plus 1 lingcod per trip, up to a trip limit of 10 lingcod, on a trip where any fishing occurs within the nontrawl RCA. This limit only applies when lingcod retention is allowed. Vessels participating in the ocean salmon troll fishery must be equipped with a vessel monitoring system (VMS) to retain incidentally caught groundfish. This proposed action would allow retention of 1 lingcod per 5 Chinook salmon plus 1 lingcod per trip, up to a trip limit of 10 lingcod, on a trip where any fishing occurs within the RCA. For 2019-20, the lingcod fishery is proposed to be open year-round for the open access groundfish fishery. The Council can adjust the ratio of lingcod retention per Chinook landed through inseason adjustments, if necessary.

As Section C.9 of Appendix C of the Analysis notes, this action would be the first modification of the ratio since it was implemented in 2009 (74 FR 9874; March 6, 2009). The Council recommended this measure because there has been an increased rate of lingcod encounters as Chinook harvest opportunities have declined. This increased encounter rate has resulted in an increase in regulatory discards of lingcod. This proposed action would align the lingcod retention limit with the true lingcod encounter rate in the salmon troll fishery while continuing to discourage lingcod targeting. Salmon trollers would still to be subject to the existing overall limit of 10 lingcod per trip and the existing requirement to have VMS in order to retain any incidentally caught groundfish. NMFS does not expect this proposed action will create an incentive for salmon trollers to target lingcod because these vessels would still be restricted to an overall limit of 10 lingcod per trip.

P. Administrative Actions

NMFS also proposes four minor changes to the regulatory text to clarify regulatory intent. NMFS proposes to add big skate to the LEFG and OA fixed gear fisheries trip limit tables, Table 2 North and Table 2 South to Part 660 Subpart E, and Table 3 North and Table 3 South to Part 660 Subpart F. Big skate is not currently listed in the trip limit table for either the LEFG or OA fisheries, and as such is unlimited. Adding it to the trip limit tables would provide clarity on this existing management measure.

This proposed rule would remove an obsolete reference to halibut weight provisions at § 660.333(c)(3). The obsolete reference originally mirrored a provision in California state regulations, but the California Department of Fish and Wildlife removed this provision from state regulations in 2004.

This proposed rule would clarify the application of Amendment 21-3 set-aside management of darkblotched rockfish and Pacific ocean perch for the at-sea sector for both years of the biennium in Tables 1b, 2b, 1d, and 2d to part 660, subpart C.

Finally, this action would remove the WCGOP priority sampling requirement for canary rockfish and bocaccio, formerly overfished stocks that were declared rebuilt, as requested by the Council at their March 2017 meeting. Under this requirement, observers are required to count and weigh these fish on a docked vessel prior to offloading. This requirement was implemented to prevent vessels from discarding overfished stocks for which they may have low QP at port prior to offload. Under 50 CFR 660.60(c)(1), the Council can modify the list of stocks subject to this catch monitoring requirement as a routine management measure. In March 2017, the Council recommended that the priority sampling requirement be removed for canary rockfish and bocaccio because these stocks are now rebuilt.

IV. Classification

Pursuant to section 304 (b)(1)(A) of the Magnuson-Stevens Act, the NMFS Assistant Administrator has determined that this proposed rule is consistent with the PCGFMP, other provisions of the Magnuson-Stevens Act, and other applicable law, subject to further consideration after public comment. In making its final determination, NMFS will take into account the complete record, including the data, views, and comments received during the comment period.

Pursuant to Executive Order 13175, this proposed rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.324(d) further state, “the Secretary will develop tribal allocations and regulations under this paragraph in consultation with the affected tribe(s) and, insofar as possible, with tribal consensus.” The tribal management measures in this proposed rule have been developed following these procedures. The tribal representative on the Council made a motion to adopt the non-whiting tribal management measures, which was passed by the Council. Those management measures, which were developed and proposed by the tribes, are included in this proposed rule.

This proposed rule has been determined to be not significant for purposes of Executive Order 12866.

NMFS prepared an integrated Analysis for this action, which addresses the statutory requirements of the Magnuson-Stevens Act, the National Environmental Policy Act, Presidential Executive Order 12866, and the Regulatory Flexibility Act. The full suite of alternatives analyzed by the Council can be found on the Council's website at www.pcouncil.org. This Analysis does not contain all the alternatives, because an EIS was prepared for the 2015-16 biennial harvest specifications and management measures and is available from NMFS (see ADDRESSES). This EIS examined the harvest specifications and management measures for 2015-16 and ten year projections for routinely adjusted harvest specifications and management measures. The ten year projections were produced to evaluate the impacts of the ongoing implementation of harvest specifications and management measures and to evaluate the impacts of the routine adjustments that are the main component of each biennial cycle. Therefore, the EA for the 2019-20 cycle tiers from the 2015-16 EIS and focuses on the harvest specifications and management measures that were not within the scope of the ten year projections in the 2015-16 EIS. A copy of the EA is available from NMFS (see ADDRESSES). This action also announces a public comment period on the EA.

An initial regulatory flexibility analysis (IRFA) was prepared for this action, as required by section 603 of the Regulatory Flexibility Act (RFA) (5 U.S.C. 603). The IRFA describes the economic impact this proposed rule, if adopted, would have on small entities. A description of the action, why it is being considered, and the legal basis for this action is contained in the SUMMARY section and at the beginning of the SUPPLEMENTARY INFORMATION section of the preamble. A summary of the IRFA follows. A copy of the IRFA is available from NMFS (see ADDRESSES).

When an agency proposes regulations, the RFA requires the agency to prepare and make available for public comment an IRFA that describes the impact on small businesses, non-profit enterprises, local governments, and other small entities. The IRFA is to aid the agency in considering all reasonable regulatory alternatives that would minimize the economic impact on affected small entities.

The RFA (5 U.S.C. 601 et seq.) requires government agencies to assess the effects that regulatory alternatives would have on small entities, defined as any business/organization independently owned and operated, not dominant in its field of operation (including its affiliates). A small harvesting business has combined annual receipts of $11 million ² or less for all affiliated operations worldwide.

² On December 29, 2015, the National Marine Fisheries Service (NMFS) issued a final rule establishing a small business size standard of $11 million in annual gross receipts for all businesses primarily engaged in the commercial fishing industry (NAICS 11411) for Regulatory Flexibility Act (RFA) compliance purposes only (80 FR 81194, December 29, 2015; 50 CFR part 200). The $11 million standard became effective on July 1, 2016, and after that date it is to be used in all NMFS rules subject to the RFA. Id. at 81194. This NMFS rule is to be used in place of the U.S. Small Business Administration's (SBA) current standards of $20.5 million, $5.5 million, and $7.5 million for the finfish (NAICS 114111), shellfish (NAICS 114112), and other marine fishing (NAICS 114119) sectors of the U.S. commercial fishing industry, respectively.

A small fish-processing business is one that employs 750 or fewer persons for all affiliated operations worldwide. NMFS is applying this standard to catcher/processors (C/Ps) for the purposes of this rulemaking, because these vessels earn the majority of their revenue from selling processed fish.

For marinas and charter/party boats, a small business is one that has annual receipts not in excess of $7.5 million. A wholesale business servicing the fishing industry is a small business if it employs 100 or fewer persons on a full-time, part-time, temporary, or other basis, at all its affiliated operations worldwide.

For the purposes of this rulemaking, a nonprofit organization is determined to be “not dominant in its field of operation” if it is considered small under one of the following Small Business Administration (SBA) size standards: environmental, conservation, or professional organizations are considered small if they have combined annual receipts of $15 million or less, and other organizations are considered small if they have combined annual receipts of $7.5 million or less. The RFA defines small governmental jurisdictions as governments of cities, counties, towns, townships, villages, school districts, or special districts with populations of less than 50,000.

Description and estimate of the number of small entities to which the rule applies, and estimate of economic impacts by entity size and industry

This proposed rule would regulate businesses that participate in the groundfish fishery. This rule would directly affect commercial vessels in the groundfish fisheries, trawl QS holders and Pacific whiting catch history endorsed permit holders (which include shorebased whiting processors), tribal vessels, and charterboat vessels. Additionally, a provision of this proposed rule would regulate commercial vessels in the salmon troll fleet.

To determine the number of small entities potentially affected by this rule, NMFS reviewed analyses of fish ticket data and limited entry permit data, information on charterboat, tribal, and open access fleets, available cost-earnings data developed by NWFSC, and responses associated with the permitting process for the Trawl Rationalization Program where applicants were asked if they considered themselves a small business based on SBA definitions. This rule would primarily regulate businesses that harvest groundfish.

Charter Operations

There were an estimated 287 active Commercial Passenger Fishing Vessels (charter boats) engaged in groundfish fishing in California in 2017. In 2017, an estimated 49 charter boats targeted groundfish in Oregon. There is no Oregon license or tracking of party fishing (or “six pack”) vessel businesses that will also be impacted, however in one week in August 2017, there were 285 boat trips targeting recreational groundfish in Oregon; this number includes the 49 charter vessels and is the upper bound of the number of such entities likely to be impacted in Oregon. Similarly in Washington, the number of party/charter vessels likely to be impacted by the proposed rule was 182 in 2017. All 705 of these vessels are likely to be impacted by changes in recreational catch guidelines for groundfish in their respective states.

Commercial Vessels

Groundfish

Entities that are not registered as trusts, estates, governments, or non-profits are assumed to earn the majority of their revenue from commercial fishing. There are 124 QS permit owners, who collectively received 76.5 percent of the QP issued in 2018. Limited entry groundfish vessels are required to self-report size across all affiliated entities; of the business who earn the majority of their revenue from commercial fishing, one self-reported as large. This entity owns four groundfish permits and one QS permit. 264 entities owning 376 permits self-reported as small. The average small entity owns 1.4 permits, with 30 small entities owning between 3-6 permits each. Open access groundfish vessel owners are assumed to earn the majority of their revenue from fishing and would thus fall into this Small Business Administration definition. 186 non-limited entry vessels harvested at least $10,000 worth of groundfish in 2017; these are likely to be impacted by the proposed rule. This number is likely an upper bound, as some entities may own more than one vessel. However, these generally small operations are assumed to be independent entities; with the top three vessels having coastwide (including non-groundfish) revenues averaging $585,000. Median revenues were $37,000 per vessel.

In addition to benefits from increasing ACLs in the harvest specifications, several of the new management measures contained in the proposed rule are likely to benefit vessels. Clarifications resulting from the stock complex restructuring and updates to Rockfish Conservation Area coordinates may streamline management burden for vessels. IFQ vessels are expected to benefit from the removal of daily vessel quota pounds, which did not appear to constrain operations, but which did account for some level of administrative burden for quota pound account managers. With the elimination of these limits, managers will have greater flexibility in moving and holding quota pounds for the remaining overfished species and halibut IBQ. These vessels and vessel account operators may also benefit somewhat from changes to the discard mortality rates in the IFQ program. Some of the non-trawl fixed gear vessels are expected to benefit by the modifications to the commercial depths inside the Western Cowcod Conservation area in California.

Salmon Trollers

The proposed rule primarily impacts entities in the groundfish fishery. However, one new management measure included the proposed rule will likely benefit vessels primarily involved in the salmon troll fishery, through a modification in the incidental lingcod retention ratio in that fishery. This modification reflects the increased rate of lingcod encounters during declining Chinook salmon harvest seasons. This modification would allow salmon trollers to retain and sell a larger number of lingcod caught incidentally when targeting salmon. The level of activity varies substantially, with trips ranging from 500 to over 5,500 in a year. The subsector of the fleet expected to benefit from the proposed rule is much smaller, as historically a small proportion has elected to land lingcod within the previously allowed limits. In order to land lingcod, the vessel would have to install VMS, which (among other factors) likely deters salmon trollers. Thus, this provision of the proposed rule is likely to impact 3 of 220 vessels operating in California. In Oregon, between 7 and 85 trollers have landed lingcod, and in Washington between 10 and 17 trollers have landed lingcod. The proposed rule would confer a small benefit to these 105 vessels, which landed lingcod on a median of 1-2 trips, with vessels in the 90th percentile landing lingcod on 5 trips annually. This small positive benefit is not expected to be a substantial impact. A substantial number of small entities in the overall salmon troll fishery are not likely to be impacted by the proposed rule.

QS Owners

Because the harvest specifications process determines the amount of QP available in the catch share (Shorebased IFQ Program) sector, this proposed rule will impact QS. Twenty-two non-whiting QS permit owners are estimated to be primarily engaged in seafood product preparation and packaging, based on holdings of first receiver permit affiliation in the non-public West Coast Region permits database. According to the size standard described above, three of the entities that own three of these permits are considered small. These small processing entities were issued 1.7 percent of the non-whiting QP issued in 2018. Some of these small processing entities also own groundfish permits, which are required on both catcher vessels and catcher processors, and which would be regulated by the proposed rule; three small entities primarily engaged in seafood processing own two groundfish permits. Thirty groundfish vessel permits are owned by seven entities that are considered large, as estimated by NMFS using the standard described above, and as estimated by information regarding ownership affiliation and self-reported size on groundfish permits and first receiver site license permits (self-reported using the standard described above). Six of these seven large processing entities were issued 10.2 percent of the non-whiting QP issued in 2018 across sixteen QS permits.

Governmental Jurisdictions

According to the public IFQ Account database as of June 19, 2018, the City of Monterey owns QS of ten stocks. The U.S. Census estimates the population to be 28,454 as of July 1, 2017, so would be considered a small governmental jurisdiction by the RFA standard noted above. The City of Monterey received 0.5 percent of the QP issued for 2018, according to the public IFQ Account database.

Not-for-Profits

According to the public IFQ Account database, six not-for-profit organizations own QS in the catch share program and would thus be impacted by the trawl sector allocation under this proposed rule. Five of these would be considered small by the definition noted above (with 2016 annual receipts as reported on IRS form 990 of $120-500 thousand dollars), and one would be considered large (with self-reported fiscal year 2017 receipts of $1.1 billion). Collectively, the five small not-for-profit organizations received 7.2 percent of the non-whiting ³ QP issued in 2018, and the large not-for-profit organization received 0.5 percent. The large not-for-profit organization also owned four limited entry trawl permits which would be impacted by the management measures of the rule.

³ Whiting is issued annually through a separate rulemaking process resulting from international treaty negotiations. (See 83 FR 22401 for more information and 2018 allocations.)

Small Trusts

Eleven personal or family trusts/estates owned QS permits and would thus potentially be impacted by the trawl sector allocation under this proposed rule. All of these are assumed to be smaller than the size standard noted above. Collectively, these eight small entities received 4.2 percent of the non-whiting QP issued for 2018.

A description of any significant alternatives to the proposed rule that accomplish the stated objectives of applicable statutes and that minimize any significant economic impact of the proposed rule on small entities

In the event of a fishery closure under the Biological Opinion provisions included in this rule (50 CFR 660.60(d)(1)(v) and (vi) of this proposed rule), the loss of revenue in groundfish fisheries would likely have a substantial negative impact on a significant number of small entities, and an equal impact on all large entities in the fishery. However, such a closure is not anticipated by NMFS and the Council, given historic catch levels and the existence of cooperative management structures with extensive inseason monitoring. Because these provisions are non-discretionary under the ESA, there are no significant alternatives to the proposed rule that would minimize adverse economic impacts on small entities.

The Council considered alternatives to the actions in this proposed rule that would have a lower level of benefits to small entities. The Council did not consider alternatives that would have greater benefits to small entities, as these would not have met several primary objectives of the rule (the prevention of overfishing, the rebuilding of overfished stocks, and ensuring conservation).

Under the No Action alternative, the default harvest specifications and associated routine management measures would be implemented using best scientific information available to establish default harvest control rules for all groundfish stocks. The Council considered alternative specifications for California scorpionfish, lingcod north of 40°10' N lat, and yelloweye rockfish. In each case, the Council selected the harvest control rule that resulted in the maximum benefits to both large and small directly regulated entities. Routine management measures are adjusted according to harvest specifications, which also impact the new management measures available for implementation.

Regulatory Flexibility Act (RFA) Determination of No Significant Impact

The RFA requires Federal agencies to conduct an analysis of the impact of the proposed rule on small entities. The proposed rule would impact a significant number of small entities, but that these impacts are expected to range from neutral to positive, depending on individual response to increased harvest guidelines and updated management measures. Because there are no anticipated compliance costs or other adverse effects, NMFS concludes (subject to review of any pertinent public comments) that the rule will not have a substantial adverse impact on the significant number of directly regulated entities.

List of Subjects in 50 CFR Part 660

Fisheries, Fishing, Reporting and recordkeeping requirements.

Dated: September 4, 2018.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. In § 660.11:

a. In the definition of “Conservation area(s)”, revise paragraph (1); and

b. In the definition of “Groundfish”:

i. Revise paragraphs (6) and (7)(i) introductory text;

ii. Redesignate paragraph (7)(i)(B) as (7)(i)(C);

iii. Add new paragraph (7)(i)(B); and

iv. Revise paragraph (9).

The revisions and additions read as follows:

§ 660.11 General definitions.

* * * * *

Conservation Area(s) * * *

(1) Groundfish Conservation Area or GCA means a geographic area defined by coordinates expressed in degrees latitude and longitude, wherein fishing by a particular gear type or types may be prohibited. Regulations at § 660.60(c)(3) describe the various purposes for which these GCAs may be implemented. Regulations at § 660.70 define coordinates for these polygonal GCAs: Yelloweye Rockfish Conservation Areas, Cowcod Conservation Areas, waters encircling the Farallon Islands, and waters encircling the Cordell Bank. GCAs also include Bycatch Reduction Areas (BRAs), and Rockfish Conservation Areas or RCAs, which are areas closed to fishing by particular gear types, bounded by lines approximating particular depth contours. RCA boundaries may and do change seasonally according to conservation needs. Regulations at §§ 660.70 through 660.74 define boundary lines with latitude/longitude coordinates; regulations at Tables 1 (North) and 1 (South) of subpart D, Tables 2 (North) and 2 (South) of subpart E, and Tables 3 (North) and 3 (South) of subpart F set seasonal boundaries. Fishing prohibitions associated with GCAs are in addition to those associated with EFH Conservation Areas.

* * * * *

Groundfish * * *

* * * * *

(6) Roundfish: Cabezon, Scorpaenichthys marmoratus; kelp greenling, Hexagrammos decagrammus; lingcod, Ophiodon elongatus; Pacific cod, Gadus macrocephalus; Pacific whiting, Merluccius productus; sablefish, Anoplopoma fimbria. Species listed below with an area-specific listing are managed within a complex in that area-specific listing.

(i) Between 46°16′ N lat. and the U.S. Canada border (Washington): Cabezon, S. marmoratus and kelp greenling, H. decagrammus.

(ii) Between 46°16′ N lat. and 42° N lat. (Oregon): Cabezon, S. marmoratus and kelp greenling, H. decagrammus.

(7) * * *

(i) Nearshore rockfish includes black rockfish, Sebastes melanops (off Washington) and the following nearshore rockfish species managed in “minor rockfish” complexes:

* * * * *

(B) Between 46°16′ N lat. and 42° N lat. (Oregon): black rockfish, S. melanops, blue rockfish, S. mystinus, deacon rockfish, S. diaconus.

* * * * *

(9) “Other Fish”: kelp greenling (Hexagrammos decagrammus) off California and leopard shark (Trakis semifasciata).

* * * * *

3. Amend § 660.40 as follows:

a. Remove paragraphs (a), (c), and (d);

b. Redesignate paragraph (b) as paragraph (a), and paragraph (e) as paragraph (b); and

c. Revise newly redesignated paragraph (b).

The revision reads as follows:

§ 660.40 Overfished species rebuilding plans.

* * * * *

(b) Yelloweye rockfish. Yelloweye rockfish was declared overfished in 2002. The target year for rebuilding the yelloweye rockfish stock to BMSY is 2029. The harvest control rule to be used to rebuild the yelloweye rockfish stock is an annual SPR harvest rate of 65.0 percent.

4. In § 660.50, revise paragraphs (f)(2)(ii) and (f)(6) and add paragraph (h) to read as follows:

§ 660.50 Pacific Coast treaty Indian fisheries.

* * * * *

(f) * * *

(2) * * *

(ii) The Tribal allocation is 561 mt in 2019 and 572 mt in 2020 per year. This allocation is, for each year, 10 percent of the Monterey through Vancouver area (North of 36′ N lat.) ACL. The Tribal allocation is reduced by 1.5 percent for estimated discard mortality.

* * * * *

(6) Petrale sole. For petrale sole, treaty fishing vessels are restricted to a fleetwide harvest target of 290 mt each year.

* * * * *

(h) Salmon bycatch. This fishery may be closed through automatic action at 660.60(d)(1)(v) and (d)(1)(vi).

5. In § 660.55, revise paragraphs (c)(1)(i)(A) and (B) to read as follows:

§ 660.55 Allocations.

* * * * *

(c) * * *

(1) * * *

(i) * * *

(A) Darkblotched rockfish. Distribute 9 percent or 25 mt, whichever is greater, of the total trawl allocation of darkblotched rockfish to the Pacific whiting fishery (MS sector, C/P sector, and Shorebased IFQ sectors). The distribution of darkblotched rockfish to each sector will be done pro rata relative to the sector's allocation of the commercial harvest guideline for Pacific whiting. Darkblotched rockfish distributed to the MS sector and C/P sector are managed as set-asides at Table 1d and Table 2d, subpart C. The allocation of darkblotched rockfish to the Pacific whiting IFQ fishery contributes to the Shorebased IFQ allocation. After deducting allocations for the Pacific whiting fishery, the remaining trawl allocation is allocated to the Shorebased IFQ Program.

(B) Pacific Ocean Perch (POP). Distribute 17 percent or 30 mt, whichever is greater, of the total trawl allocation of POP to the Pacific whiting fishery (MS sector, C/P sector, and Shorebased IFQ sector). The distribution of POP to each sector will be done pro rata relative to the sector's allocation of the commercial harvest guideline for Pacific whiting. POP distributed to the MS sector and C/P sector are managed as set-asides at Table 1d and Table 2d, subpart C. The allocation of POP to the Pacific whiting IFQ fishery contributes to the Shorebased IFQ allocation. After deducting allocations for the Pacific whiting fishery, the remaining trawl allocation is allocated to the Shorebased IFQ Program.

* * * * *

6. Amend § 660.60 as follows:

a. Revise paragraph (d)(1)(v);

b. Remove paragraph (d)(1)(vii);

c. Redesignate paragraph (d)(1)(vi) as paragraph (d)(1)(vii); and

d. Add new paragraph (d)(1)(vi).

The revision and addition read as follows:

§ 660.60 Specifications and management measures.

* * * * *

(d) * * *

(1) * * *

(v) Close one or both of the whiting or non-whiting sectors of the groundfish fishery upon that sector having exceeded its annual Chinook salmon bycatch guideline and the reserve. The whiting sector includes the Pacific whiting IFQ fishery, MS, and C/P sectors. The non-whiting sector includes the midwater trawl, bottom trawl, and fixed gear fisheries under the Shorebased IFQ Program, limited entry fixed gear fisheries, open access fisheries, and recreational fisheries subject to this provision as set out in § 660.360(d).

(A) The whiting sector Chinook salmon bycatch guideline is 11,000 fish.

(B) The non-whiting sector Chinook salmon bycatch guideline is 5,500 fish.

(C) The reserve is 3,500 fish.

(vi) Close the whiting or non-whiting sector of the groundfish fishery upon that sector having exceeded its annual Chinook salmon bycatch guideline if the other sector has already been closed after exceeding its Chinook salmon bycatch guideline and the reserve. The whiting sector includes the Pacific whiting IFQ fishery, MS, and C/P sectors. The non-whiting sector includes the midwater trawl, bottom trawl, and fixed gear fisheries under the Shorebased IFQ Program, limited entry fixed gear fisheries, open access fisheries, and recreational fisheries subject to this provision as set out in § 660.360(d).

* * * * *

7. Amend § 660.71 as follows:

a. Redesignate paragraphs (k) through (n) as paragraphs (o) through (r); and

b. Add new paragraphs (k) through (n) and paragraphs (s) through (v).

The additions read as follows:

§ 660.71 Latitude/longitude coordinates defining the 10-fm (18-m) through 40-fm (73-m) depth contours.

* * * * *

(k) The 30 fm (55 m) depth contour around Santa Barbara Island off the state of California is defined by straight lines connecting all of the following points in the order stated:

(1) 33°30.38′ N lat., 119°03.15′ W long.;

(2) 33°29.64′ N lat., 119°00.58′ W long.;

(3) 33°27.24′ N lat., 119°01.73′ W long.;

(4) 33°27.76′ N lat., 119°03.48′ W long.;

(5) 33°29.50′ N lat., 119°04.20′ W long.; and

(6) 33°30.38′ N lat., 119°03.15′ W long.

(l) The 30 fm (55 m) depth contour around San Nicholas Island off the state of California is defined by straight lines connecting all of the following points in the order stated:

(1) 33°18.39′ N lat., 119°38.87′ W long.;

(2) 33°18.63′ N lat., 119°27.52′ W long.;

(3) 33°15.24′ N lat., 119°20.10′ W long.;

(4) 33°13.27′ N lat., 119°20.10′ W long.;

(5) 33°12.16′ N lat., 119°26.82′ W long.;

(6) 33°13.20′ N lat., 119°31.87′ W long.;

(7) 33°15.70′ N lat., 119°38.87′ W long.;

(8) 33°17.52′ N lat., 119°40.15′ W long.; and

(9) 33°18.39′ N lat., 119°38.87′ W long.

(m) The 30 fm (55 m) depth contour around Tanner Bank off the state of California is defined by straight lines connecting all of the following points in the order stated:

(1) 32°43.02′ N lat., 119°08.52′ W long.;

(2) 32°41.81′ N lat., 119°06.20′ W long.;

(3) 32°40.67′ N lat., 119°06.82′ W long.;

(4) 32°41.62′ N lat., 119°09.46′ W long.; and

(5) 32°43.02′ N lat., 119°08.52′ W long.

(n) The 30 fm (55 m) depth contour around Cortes Bank off the state of California is defined by straight lines connecting all of the following points in the order stated:

(1) 32°29.73′ N lat., 119°12.95′ W long.;

(2) 32°28.17′ N lat., 119°07.04′ W long.;

(3) 32°26.27′ N lat., 119°04.14′ W long.;

(4) 32°25.22′ N lat., 119°04.77′ W long.;

(5) 32°28.60′ N lat., 119°14.15′ W long.; and

(6) 32°29.73′ N lat., 119°12.95′ W long.

* * * * *

(s) The 40 fm (73 m) depth contour around Santa Barbara Island off the state of California is defined by straight lines connecting all of the following points in the order stated:

(1) 33°30.87′ N lat., 119°02.43′ W long.;

(2) 33°29.87′ N lat., 119°00.34′ W long.;

(3) 33°27.08′ N lat., 119°01.65′ W long.;

(4) 33°27.64′ N lat., 119°03.45′ W long.;

(5) 33°29.12′ N lat., 119°04.55′ W long.;

(6) 33°29.66′ N lat., 119°05.49′ W long.; and

(7) 33°30.87′ N lat., 119°02.43′ W long.

(t) The 40 fm (73 m) depth contour around Tanner Bank off the state of California is defined by straight lines connecting all of the following points in the order stated:

(1) 32°43.40′ N lat., 119°08.56′ W long.;

(2) 32°41.36′ N lat., 119°05.02′ W long.;

(3) 32°40.07′ N lat., 119°05.59′ W long.;

(4) 32°41.51′ N lat., 119°09.76′ W long.; and

(5) 32°43.40′ N lat., 119°08.56′ W long.

(u) The 40 fm (73 m) depth contour around San Nicholas Island off the state of California is defined by straight lines connecting all of the following points in the order stated:

(1) 33°19.30′ N lat., 119°41.05′ W long.;

(2) 33°19.42′ N lat., 119°27.88′ W long.;

(3) 33°14.31′ N lat., 119°17.48′ W long.;

(4) 33°12.90′ N lat., 119°17.64′ W long.;

(5) 33°11.89′ N lat., 119°27.26′ W long.;

(6) 33°12.19′ N lat., 119°29.96′ W long.;

(7) 33°15.42′ N lat., 119°39.14′ W long.;

(8) 33°17.58′ N lat., 119°41.38′ W long.; and

(9) 33°19.30′ N lat., 119°41.05′ W long.

(v) The 40 fm (73 m) depth contour around Cortes Bank off the state of California is defined by straight lines connecting all of the following points in the order stated:

(1) 32°30.00′ N lat., 119°12.98′ W long.;

(2) 32°28.33′ N lat., 119°06.81′ W long.;

(3) 32°25.69′ N lat., 119°03.21′ W long.;

(4) 32°24.66′ N lat., 119°03.83′ W long.;

(5) 32°28.48′ N lat., 119°14.66′ W long.; and

(6) 32°30.00′ N lat., 119°12.98′ W long.

8. Amend § 660.72 as follows:

a. Redesignate paragraphs (k)(15) through (31) as (k)(17) through (33), respectively; and

b. Add new paragraphs (k)(15) and (16).

The additions read as follows:

§ 660.72 Latitude/longitude coordinates defining the 50 fm (91 m) through 75 fm (137 m) depth contours.

* * * * *

(k) * * *

(15) 33°57.77′ N lat., 119°33.49′ W long.;

(16) 33°57.64′ N lat., 119°35.78′ W long.;

* * * * *

9. Amend § 660.73 as follows:

a. Revise paragraphs (a)(178), (a)(181), (a)(190) through (192), and (d)(205) through (354);

b. Add paragraphs (d)(355) through (363);

c. Revise paragraphs (h)(281) through (313); and

d. Add paragraphs (h)(314) through (316).

The revisions and additions read as follows:

§ 660.73 Latitude/longitude coordinates defining the 100 fm (183 m) through 150 fm (274 m) depth contours.

* * * * *

(a) * * *

(178) 40°10.13′ N lat., 124°21.92′ W long.;

* * * * *

(181) 40°06.39′ N lat., 124°17.26′ W long.;

* * * * *

(190) 40°01.00′ N lat., 124°09.96′ W long.;

(191) 39°58.07′ N lat., 124°11.81′ W long.;

(192) 39°56.39′ N lat., 124°08.69′ W long.;

* * * * *

(d) * * *

(205) 40°02.67′ N lat., 124°11.83′ W long.;

(206) 40°02.70′ N lat., 124°10.57′ W long.;

(207) 40°04.08′ N lat., 124°10.09′ W long.;

(208) 40°04.08′ N lat., 124°09.10′ W long.;

(209) 40°01.23′ N lat., 124°08.91′ W long.;

(210) 40°01.18′ N lat., 124°09.92′ W long.;

(211) 39°58.05′ N lat., 124°11.87′ W long.;

(212) 39°56.39′ N lat., 124°08.70′ W long.;

(213) 39°54.64′ N lat., 124°07.31′ W long.;

(214) 39°53.87′ N lat., 124°07.95′ W long.;

(215) 39°52.42′ N lat., 124°08.18′ W long.;

(216) 39°49.64′ N lat., 124°06.05′ W long.;

(217) 39°49.30′ N lat., 124°04.60′ W long.;

(218) 39°48.49′ N lat., 124°03.86′ W long.;

(219) 39°47.73′ N lat., 124°04.59′ W long.;

(220) 39°42.50′ N lat., 124°00.60′ W long.;

(221) 39°34.23′ N lat., 123°56.82′ W long.;

(222) 39°33.00′ N lat., 123°56.44′ W long.;

(223) 39°30.96′ N lat., 123°56.00′ W long.;

(224) 39°31.34′ N lat., 123°56.71′ W long.;

(225) 39°32.03′ N lat., 123°57.44′ W long.;

(226) 39°31.43′ N lat., 123°58.16′ W long.;

(227) 39°05.56′ N lat., 123°57.24′ W long.;

(228) 39°01.75′ N lat., 123°56.83′ W long.;

(229) 38°59.52′ N lat., 123°55.95′ W long.;

(230) 38°58.98′ N lat., 123°56.57′ W long.;

(231) 38°57.50′ N lat., 123°56.57′ W long.;

(232) 38°53.91′ N lat., 123°56.00′ W long.;

(233) 38°42.57′ N lat., 123°46.60′ W long.;

(234) 38°28.72′ N lat., 123°35.61′ W long.;

(235) 38°28.01′ N lat., 123°36.47′ W long.;

(236) 38°20.94′ N lat., 123°31.26′ W long.;

(237) 38°15.94′ N lat., 123°25.33′ W long.;

(238) 38°10.95′ N lat., 123°23.19′ W long.;

(239) 38°05.52′ N lat., 123°22.90′ W long.;

(240) 38°08.46′ N lat., 123°26.23′ W long.;

(241) 38°06.95′ N lat., 123°28.03′ W long.;

(242) 38°06.25′ N lat., 123°29.70′ W long.;

(243) 38°04.57′ N lat., 123°31.37′ W long.;

(244) 38°02.32′ N lat., 123°31.09′ W long.;

(245) 37°59.97′ N lat., 123°28.43′ W long.;

(246) 37°58.10′ N lat., 123°26.69′ W long.;

(247) 37°55.46′ N lat., 123°27.05′ W long.;

(248) 37°51.51′ N lat., 123°24.86′ W long.;

(249) 37°45.01′ N lat., 123°12.09′ W long.;

(250) 37°35.67′ N lat., 123°01.56′ W long.;

(251) 37°26.62′ N lat., 122°56.21′ W long.;

(252) 37°14.41′ N lat., 122°49.07′ W long.;

(253) 37°11.00′ N lat., 122°45.87′ W long.;

(254) 37°07.00′ N lat., 122°41.97′ W long.;

(255) 37°03.19′ N lat., 122°38.31′ W long.;

(256) 37°00.99′ N lat., 122°35.51′ W long.;

(257) 36°58.31′ N lat., 122°27.56′ W long.;

(258) 37°00.54′ N lat., 122°24.74′ W long.;

(259) 36°57.81′ N lat., 122°24.65′ W long.;

(260) 36°58.54′ N lat., 122°21.67′ W long.;

(261) 36°56.52′ N lat., 122°21.70′ W long.;

(262) 36°55.37′ N lat., 122°18.45′ W long.;

(263) 36°52.16′ N lat., 122°12.17′ W long.;

(264) 36°51.53′ N lat., 122°10.67′ W long.;

(265) 36°48.05′ N lat., 122°07.59′ W long.;

(266) 36°47.35′ N lat., 122°03.27′ W long.;

(267) 36°50.71′ N lat., 121°58.17′ W long.;

(268) 36°48.89′ N lat., 121°58.90′ W long.;

(269) 36°47.70′ N lat., 121°58.76′ W long.;

(270) 36°48.37′ N lat., 121°51.15′ W long.;

(271) 36°45.74′ N lat., 121°54.18′ W long.;

(272) 36°45.50′ N lat., 121°57.73′ W long.;

(273) 36°44.02′ N lat., 121°58.55′ W long.;

(274) 36°38.84′ N lat., 122°01.32′ W long.;

(275) 36°35.63′ N lat., 122°00.98′ W long.;

(276) 36°32.47′ N lat., 121°59.17′ W long.;

(277) 36°32.52′ N lat., 121°57.62′ W long.;

(278) 36°30.16′ N lat., 122°00.55′ W long.;

(279) 36°24.56′ N lat., 121°59.19′ W long.;

(280) 36°22.19′ N lat., 122°00.30′ W long.;

(281) 36°20.62′ N lat., 122°02.93′ W long.;

(282) 36°18.89′ N lat., 122°05.18′ W long.;

(283) 36°14.45′ N lat., 121°59.44′ W long.;

(284) 36°13.73′ N lat., 121°57.38′ W long.;

(285) 36°14.41′ N lat., 121°55.45′ W long.;

(286) 36°10.25′ N lat., 121°43.08′ W long.;

(287) 36°07.67′ N lat., 121°40.92′ W long.;

(288) 36°02.51′ N lat., 121°36.76′ W long.;

(289) 36°01.04′ N lat., 121°36.68′ W long.;

(290) 36°00.00′ N lat., 121°35.15′ W long.;

(291) 35°57.84′ N lat., 121°33.10′ W long.;

(292) 35°45.57′ N lat., 121°27.26′ W long.;

(293) 35°39.02′ N lat., 121°22.86′ W long.;

(294) 35°25.92′ N lat., 121°05.52′ W long.;

(295) 35°16.26′ N lat., 121°01.50′ W long.;

(296) 35°07.60′ N lat., 120°56.49′ W long.;

(297) 34°57.77′ N lat., 120°53.87′ W long.;

(298) 34°42.30′ N lat., 120°53.42′ W long.;

(299) 34°37.69′ N lat., 120°50.04′ W long.;

(300) 34°30.13′ N lat., 120°44.45′ W long.;

(301) 34°27.00′ N lat., 120°39.24′ W long.;

(302) 34°24.71′ N lat., 120°35.37′ W long.;

(303) 34°21.63′ N lat., 120°24.86′ W long.;

(304) 34°24.39′ N lat., 120°16.65′ W long.;

(305) 34°22.48′ N lat., 119°56.42′ W long.;

(306) 34°18.54′ N lat., 119°46.26′ W long.;

(307) 34°16.37′ N lat., 119°45.12′ W long.;

(308) 34°15.91′ N lat., 119°47.29′ W long.;

(309) 34°13.80′ N lat., 119°45.40′ W long.;

(310) 34°11.69′ N lat., 119°41.80′ W long.;

(311) 34°09.98′ N lat., 119°31.87′ W long.;

(312) 34°08.12′ N lat., 119°27.71′ W long.;

(313) 34°06.35′ N lat., 119°32.65′ W long.;

(314) 34°06.80′ N lat., 119°40.08′ W long.;

(315) 34°07.48′ N lat., 119°47.54′ W long.;

(316) 34°08.21′ N lat., 119°54.90′ W long.;

(317) 34°06.85′ N lat., 120°05.60′ W long.;

(318) 34°07.03′ N lat., 120°10.47′ W long.;

(319) 34°08.77′ N lat., 120°18.46′ W long.;

(320) 34°11.89′ N lat., 120°28.09′ W long.;

(321) 34°12.53′ N lat., 120°29.82′ W long.;

(322) 34°09.02′ N lat., 120°37.47′ W long.;

(323) 34°01.01′ N lat., 120°31.17′ W long.;

(324) 33°58.07′ N lat., 120°28.33′ W long.;

(325) 33°53.37′ N lat., 120°14.43′ W long.;

(326) 33°50.53′ N lat., 120°07.20′ W long.;

(327) 33°45.88′ N lat., 120°04.26′ W long.;

(328) 33°38.19′ N lat., 119°57.85′ W long.;

(329) 33°38.19′ N lat., 119°50.42′ W long.;

(330) 33°42.36′ N lat., 119°49.60′ W long.;

(331) 33°53.95′ N lat., 119°53.81′ W long.;

(332) 33°55.99′ N lat., 119°41.40′ W long.;

(333) 33°58.48′ N lat., 119°27.90′ W long.;

(334) 33°59.24′ N lat., 119°23.61′ W long.;

(335) 33°59.35′ N lat., 119°21.71′ W long.;

(336) 33°59.94′ N lat., 119°19.57′ W long.;

(337) 34°04.48′ N lat., 119°15.32′ W long.;

(338) 34°02.80′ N lat., 119°12.95′ W long.;

(339) 34°02.39′ N lat., 119°07.17′ W long.;

(340) 34°03.75′ N lat., 119°04.72′ W long.;

(341) 34°01.82′ N lat., 119°03.24′ W long.;

(342) 33°59.33′ N lat., 119°03.49′ W long.;

(343) 33°59.01′ N lat., 118°59.56′ W long.;

(344) 33°59.51′ N lat., 118°57.25′ W long.;

(345) 33°58.83′ N lat., 118°52.50′ W long.;

(346) 33°58.55′ N lat., 118°41.86′ W long.;

(347) 33°55.10′ N lat., 118°34.25′ W long.;

(348) 33°54.30′ N lat., 118°38.71′ W long.;

(349) 33°50.88′ N lat., 118°37.02′ W long.;

(350) 33°39.78′ N lat., 118°18.40′ W long.;

(351) 33°35.50′ N lat., 118°16.85′ W long.;

(352) 33°32.46′ N lat., 118°10.90′ W long.;

(353) 33°34.11′ N lat., 117°54.07′ W long.;

(354) 33°31.61′ N lat., 117°49.30′ W long.;

(355) 33°16.36′ N lat., 117°35.48′ W long.;

(356) 33°06.81′ N lat., 117°22.93′ W long.;

(357) 32°59.28′ N lat., 117°19.69′ W long.;

(358) 32°55.37′ N lat., 117°19.55′ W long.;

(359) 32°53.35′ N lat., 117°17.05′ W long.;

(360) 32°53.36′ N lat., 117°19.12′ W long.;

(361) 32°46.42′ N lat., 117°23.45′ W long.;

(362) 32°42.71′ N lat., 117°21.45′ W long.; and

(363) 32°34.54′ N lat., 117°23.04′ W long.

* * * * *

(h) * * *

(281) 34°07.10′ N lat., 120°10.37′ W long.;

(282) 34°11.07′ N lat., 120°25.03′ W long.;

(283) 34°09.00′ N lat., 120°18.40′ W long.;

(284) 34°13.16′ N lat., 120°29.40′ W long.;

(285) 34°09.41′ N lat., 120°37.75′ W long.;

(286) 34°03.15′ N lat., 120°34.71′ W long.;

(287) 33°57.09′ N lat., 120°27.76′ W long.;

(288) 33°51.00′ N lat., 120°09.00′ W long.;

(289) 33°38.16′ N lat., 119°59.23′ W long.;

(290) 33°37.04′ N lat., 119°50.17′ W long.;

(291) 33°42.28′ N lat., 119°48.85′ W long.;

(292) 33°53.96′ N lat., 119°53.77′ W long.;

(293) 33°55.88′ N lat., 119°41.05′ W long.;

(294) 33°59.18′ N lat., 119°23.64′ W long.;

(295) 33°59.26′ N lat., 119°21.92′ W long.;

(296) 33°59.94′ N lat., 119°19.57′ W long.;

(297) 34°03.12′ N lat., 119°15.51′ W long.;

(298) 34°01.97′ N lat., 119°07.28′ W long.;

(299) 34°03.60′ N lat., 119°04.71′ W long.;

(300) 33°59.30′ N lat., 119°03.73′ W long.;

(301) 33°58.87′ N lat., 118°59.37′ W long.;

(302) 33°58.08′ N lat., 118°41.14′ W long.;

(303) 33°50.93′ N lat., 118°37.65′ W long.;

(304) 33°39.54′ N lat., 118°18.70′ W long.;

(305) 33°35.42′ N lat., 118°17.14′ W long.;

(306) 33°32.15′ N lat., 118°10.84′ W long.;

(307) 33°33.71′ N lat., 117°53.72′ W long.;

(308) 33°31.17′ N lat., 117°49.11′ W long.;

(309) 33°16.53′ N lat., 117°36.13′ W long.;

(310) 33°06.77′ N lat., 117°22.92′ W long.;

(311) 32°58.94′ N lat., 117°20.05′ W long.;

(312) 32°55.83′ N lat., 117°20.15′ W long.;

(313) 32°46.29′ N lat., 117°23.89′ W long.;

(314) 32°42.00′ N lat., 117°22.16′ W long.;

(315) 32°39.47′ N lat., 117°27.78′ W long.; and

(316) 32°34.83′ N lat., 117°24.69′ W long.

* * * * *

10. Tables 1a to part 660, subpart C through 1d to part 660, subpart C are revised to read as follows:

Sec.
* * * * *
Table 1a to Part 660, Subpart C—2019, Specifications of OFL, ABC, ACL, ACT and Fishery HG (Weights in Metric Tons)
Table 1b. to Part 660, Subpart C—2019, Allocations by Species or Species Group (Weight in Metric Tons)
Table 1c. to Part 660, Subpart C—Sablefish North of 36° N lat. Allocations, 2019
Table 1d. to Part 660, Subpart C—At-Sea Whiting Fishery Annual Set-Asides, 2019

* * * * *

11. Tables 2a to part 660, subpart C through 2d to part 660, supbart C are revised to read as follows:

Sec.
* * * * *
Table 2a. to Part 660, Subpart C—2020, and Beyond, Specifications of OFL, ABC, ACL, ACT and Fishery Harvest Guidelines (Weights in Metric Tons)
Table 2b. to Part 660, Subpart C—2020, and Beyond, Allocations by Species or Species Group [Weight in Metric Tons]
Table 2c. to Part 660, Subpart C—Sablefish North of 36° N lat. Allocations, 2020 and Beyond
Table 2d. to Part 660, Subpart C—At-Sea Whiting Fishery Annual Set-Asides, 2020 and Beyond

* * * * *

12. In § 660.130, add paragraph (c)(2)(ii), revise paragraphs (d)(1)(ii) and (e)(6), and add paragraph (e)(8) to read as follows:

§ 660.130 Trawl fishery—management measures.

* * * * *

(c) * * *

(2) * * *

(ii) The use of selective flatfish trawl gear is required inside the Klamath River Salmon Conservation Zone (defined at § 660.131(c)(1)) and the Columbia River Salmon Conservation Zone (defined at § 660.131(c)(2)).

* * * * *

(d) * * *

(1) * * *

(ii) North of 40°10′ N lat. POP, yellowtail rockfish, Washington cabezon/kelp greenling complex, Oregon cabezon/kelp greenling complex, cabezon off California;

* * * * *

(e) * * *

(6) Bycatch reduction areas (BRAs). Vessels using midwater groundfish trawl gear during the applicable Pacific whiting primary season may be prohibited from fishing shoreward of a boundary line approximating the 75 fm (137 m), 100 fm (183 m), 150 fm (274 m), or 200 fm (366 m) depth contours.

* * * * *

(8) Salmon conservation zones. Fishing with midwater trawl gear and bottom trawl gear, other than selective flatfish trawl gear, is prohibited in the following areas:

(i) Klamath River Salmon Conservation Zone. The ocean area surrounding the Klamath River mouth bounded on the north by 41°38.80′ N lat. (approximately 6 nm north of the Klamath River mouth), on the west by 124°23′ W long. (approximately 12 nm from shore), and on the south by 41°26.80′ N lat. (approximately 6 nm south of the Klamath River mouth).

(ii) Columbia River Salmon Conservation Zone. The ocean area surrounding the Columbia River mouth bounded by a line extending for 6 nm due west from North Head along 46°18′ N lat. to 124°13.30′ W long., then southerly along a line of 167 True to 46°11.10′ N lat. and 124°11′ W long. (Columbia River Buoy), then northeast along Red Buoy Line to the tip of the south jetty.

* * * * *

13. In § 660.131, remove and reserve paragraph (c)(3) and add paragraph (i).

The addition reads as follows:

§ 660.131 Pacific whiting fishery management measures.

* * * * *

(i) Salmon bycatch. This fishery may be closed through automatic action at § 660.60(d)(1)(v) and (vi).

14. In § 660.140, revise paragraphs (d)(1)(ii)(D), (e)(4)(i), (g)(1), (h)(1)(i)(A)(3), and (l)(2) to read as follows:

§ 660.140 Shorebased IFQ Program.

* * * * *

(d) * * *

(1) * * *

(ii) * * *

(D) For the trawl fishery, NMFS will issue QP based on the following shorebased trawl allocations:

IFQ species | Area | 2019 Shorebased trawl allocation (mt) | 2020 Shorebased trawl allocation (mt)
Arrowtooth flounder | Coastwide | 12,735.1 | 10,052.3
Bocaccio | South of 40°10′ N lat. | 800.7 | 767.1
Canary rockfish | Coastwide | 946.9 | 887.8
Chilipepper | South of 40°10′ N lat. | 1,838.3 | 1,743.8
COWCOD | South of 40°10′ N lat. | 2.2 | 2.2
Darkblotched rockfish | Coastwide | 658.4 | 703.4
Dover sole | Coastwide | 45,979.2 | 45,979.2
English sole | Coastwide | 9,375.1 | 9,417.9
Lingcod | North of 40°10′ N lat. | 2,051.9 | 1,903.4
Lingcod | South of 40°10′ N lat. | 462.5 | 386.0
Longspine thornyhead | North of 34°27′ N lat. | 2,420.0 | 2,293.6
Minor Shelf Rockfish complex | North of 40°10′ N lat. | 1,155.2 | 1,151.6
Minor Shelf Rockfish complex | South of 40°10′ N lat. | 188.6 | 188.6
Minor Slope Rockfish complex | North of 40°10′ N lat. | 1,248.8 | 1,237.5
Minor Slope Rockfish complex | South of 40°10′ N lat. | 1,049.1 | 455.4
Other Flatfish complex | Coastwide | 5,603.7 | 5,192.4
Pacific cod | Coastwide | 1,034.1 | 1,034.1
Pacific ocean perch | North of 40°10′ N lat. | 3,697.3 | 3,602.2
Pacific whiting | Coastwide | TBD | TBD
Petrale sole | Coastwide | 2,453.0 | 2,393.2
Sablefish | North of 36° N lat. | 2,581.3 | 2,636.8
Sablefish | South of 36° N lat. | 834.0 | 851.7
Shortspine thornyhead | North of 34°27′ N lat. | 1,511.8 | 1,498.5
Shortspine thornyhead | South of 34°27′ N lat | 50.0 | 50.0
Splitnose rockfish | South of 40°10′ N lat. | 1,646.7 | 1,628.7
Starry flounder | Coastwide | 211.6 | 211.6
Widow rockfish | Coastwide | 9,928.8 | 9,387.1
YELLOWEYE ROCKFISH | Coastwide | 3.4 | 3.4
Yellowtail rockfish | North of 40°10′ N lat | 4,057.7 | 3,810.4

* * * * *

(e) * * *

(4) * * *

(i) Vessel limits. For each IFQ species or species group specified in this paragraph, vessel accounts may not have QP or IBQ pounds in excess of the annual QP vessel limit in any year. The annual QP vessel limit is calculated as all QPs transferred in minus all QPs transferred out of the vessel account.

Species category | Annual QP vessel limit (in percent)
Arrowtooth flounder | 20
Bocaccio S of 40°10′ N lat | 15.4
Canary rockfish | 10
Chilipepper S of 40°10′ N lat | 15
Cowcod S of 40°10′ N lat | 17.7
Darkblotched rockfish | 6.8
Dover sole | 3.9
English sole | 7.5
Lingcod:
N of 40°10′ N lat | 5.3
S of 40°10′ N lat | 13.3
Longspine thornyhead:
N of 34°27′ N lat | 9
Minor rockfish complex N of 40°10′ N lat:
Shelf species | 7.5
Slope species | 7.5
Minor rockfish complex S of 40°10′ N lat:
Shelf species | 13.5
Slope species | 9
Other Flatfish complex | 15
Pacific cod | 20
Pacific halibut (IBQ) N of 40°10′ N lat | 14.4
Pacific ocean perch N of 40°10′ N lat | 6
Pacific whiting (shoreside) | 15
Petrale sole | 4.5
Sablefish:
N of 36° N lat (Monterey north) | 4.5
S of 36° N lat (Conception area) | 15
Shortspine thornyhead:
N of 34°27′ N lat | 9
S of 34°27′ N lat | 9
Splitnose rockfish S of 40°10′ N lat | 15
Starry flounder | 20
Widow rockfish | 8.5
Yelloweye rockfish | 11.4
Yellowtail rockfish N of 40°10′ N lat | 7.5
Non-whiting groundfish species | 3.2

* * * * *

(g) * * *

(1) General. Shorebased IFQ Program vessels may discard IFQ species/species groups, and the discard mortality must be accounted for and deducted from QP in the vessel account. With the exception of vessels on Pacific whiting IFQ trips engaged in maximized retention, prohibited and protected species must be discarded at sea; Pacific halibut must be discarded as soon as practicable and the discard mortality must be accounted for and deducted from IBQ pounds in the vessel account. Non-IFQ species and non-groundfish species may be discarded at sea. The sorting of catch, the weighing and discarding of any IBQ and IFQ species, and the retention of IFQ species must be monitored by the observer.

* * * * *

(h) * * *

(1) * * *

(i) * * *

(A) * * *

(3) Is exempt from the requirement to maintain observer coverage as specified in this paragraph while remaining docked in port when the observer makes available to the catch monitor an Observer Program reporting form documenting the weight and number of any overfished species listed under a rebuilding plan at § 660.40 retained during that trip and which documents any discrepancy the vessel operator and observer may have in the weights and number of the overfished species, unless modified inseason under routine management measures at § 660.60(c)(1).

* * * * *

(l) * * *

(2) AMP QP pass through. The 10 percent of non-whiting QS will be reserved for the AMP, but the resulting AMP QP will be issued to all QS permit owners in proportion to their non-whiting QS until an alternative use of AMP QP is implemented.

15. In § 660.150, revise paragraph (c)(1)(ii) to read as follows:

§ 660.150 Mothership (MS) Coop Program.

* * * * *

(c) * * *

(1) * * *

(ii) Species with set-asides for the MS and C/P Coop Programs, as described in Table 1d and Table 2d, subpart C.

* * * * *

16. In § 660.160, revise paragraph (c)(1)(ii) to read as follows:

§ 660.160 Catcher/processor (C/P) Coop Program.

* * * * *

(c) * * *

(1) * * *

(ii) Species with set-asides for the MS and C/P Programs, as described in Table 1d and 2d, subpart C.

* * * * *

17. Revise Tables 1 (North) and 1 (South) to part 660, subpart D to read as follows:

Table 1 (North) to Part 660, Subpart D—Limited Entry Trawl Rockfish Conservation Areas and Landing Allowances for non-IFQ Species and Pacific Whiting North of 40°10′ N Lat.

Table 1 (South) to Part 660, Subpart D—Limited Entry Trawl Rockfish Conservation Areas and Landing Allowances for non-IFQ Species and Pacific Whiting South of 40°10′ N Lat.

18. In § 660.230, revise paragraphs (c)(2)(ii) and (d)(10)(ii) and add paragraph (f) to read as follows:

§ 660.230 Fixed gear fishery—management measures.

* * * * *

(c) * * *

(2) * * *

(ii) North of 40°10′ N lat.—POP, yellowtail rockfish, cabezon (California), Washington cabezon/kelp greenling complex, Oregon cabezon/kelp greenling complex;

* * * * *

(d) * * *

(10) * * *

(ii) Fishing for rockfish and lingcod is permitted shoreward of the 40 fm (73 m) depth contour within the CCAs when trip limits authorize such fishing, and provided a valid declaration report as required at § 660.13(d), subpart C, has been filed with NMFS OLE.

* * * * *

(f) Salmon bycatch. This fishery may be closed through automatic action at § 660.60(d)(1)(v) and (vi).

19. In § 660.231, revise paragraph (b)(3)(i) to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2019, the following annual limits are in effect: Tier 1 at 47,637 lb (21,608 kg), Tier 2 at 21,653 lb (9,822 kg), and Tier 3 at 12,373 lb (5,612 kg). In 2020 and beyond, the following annual limits are in effect: Tier 1 at 48,642 lb (22,064 kg), Tier 2 at 22,110 lb (10,029 kg), and Tier 3 at 12,634 lb (5,731 kg).

* * * * *

20. Revise Tables 2 (North) and 2 (South) to part 660, subpart E, to read as follows:

Table 2 (North) to Part 660, Subpart E—Non-Trawl Rockfish Conservation Areas and Trip Limits for Limited Entry Fixed Gear North of 40°10′ N Lat.

Table 2 (South) to Part 660, Subpart E—Non-Trawl Rockfish Conservation Areas and Trip Limits for Limited Entry Fixed Gear South of 40°10′ N Lat.

21. In § 660.330, revise paragraphs (c)(2)(ii) and (d)(11)(ii) and add paragraph (f) to read as follows:

§ 660.330 Open access fishery—management measures.

* * * * *

(c) * * *

(2) * * *

(ii) North of 40°10′ N lat.—POP, yellowtail rockfish, cabezon (California), Washington cabezon/kelp greenling complex, Oregon cabezon/kelp greenling complex;

* * * * *

(d) * * *

(11) * * *

(ii) Fishing for rockfish and lingcod is permitted shoreward of the 40 fm (73 m) depth contour within the CCAs when trip limits authorize such fishing, and provided a valid declaration report as required at § 660.13(d), has been filed with NMFS OLE.

* * * * *

(f) Salmon bycatch. This fishery may be closed through automatic action at § 660.60(d)(1)(v) and (d)(1)(vi).

22. In § 660.333, revise paragraph (c)(3) to read as follows:

§ 660.333 Open access non-groundfish trawl fishery—management measures.

* * * * *

(c) * * *

(3) The landing includes California halibut of a size required by California Fish and Game Code section 8392, which states: “No California halibut may be taken, possessed or sold which measures less than 22 in (56 cm) in total length. Total length means the shortest distance between the tip of the jaw or snout, whichever extends farthest while the mouth is closed, and the tip of the longest lobe of the tail, measured while the halibut is lying flat in natural repose, without resort to any force other than the swinging or fanning of the tail.”

* * * * *

23. Revise Tables 3 (North) and 3 (South) in part 660, subpart F, to read as follows:

Table 3 (North) to Part 660, Subpart F—Non-Trawl Rockfish Conservation Areas and Trip Limits for Open Access Gears North of 40°10′ N Lat.

Table 3 (South) to Part 660, Subpart F—Non-Trawl Rockfish Conservation Areas and Trip Limits for Open Access Gears South of 40°10′ N Lat.

BILLING CODE 3510-22-C

24. Amend § 660.360 as follows:

a. Revise paragraphs (c)(1) introductory text, (c)(1)(i)(D)(1) through (3), (c)(1)(ii) through (iv), (c)(2)(i)(B), (c)(3)(i)(A) through (C), (c)(3)(ii)(D), (c)(3)(iii)(B), (c)(3)(iii)(D), (c)(3)(iv), and (c)(3)(v)(A) and (B); and

b. Add paragraph (d).

The revisions and addition read as follows:

§ 660.360 Recreational fishery—management measures.

* * * * *

(c) * * *

(1) Washington. For each person engaged in recreational fishing off the coast of Washington, the groundfish bag limit is 9 groundfish per day, including rockfish, cabezon and lingcod. Within the groundfish bag limit, there are sub-limits for rockfish, lingcod, and cabezon outlined in paragraph (c)(1)(i)(D) of this section. In addition to the groundfish bag limit of 9, there will be a flatfish limit of 3 fish, not to be counted towards the groundfish bag limit but in addition to it. The recreational groundfish fishery will open the second Saturday in March through the third Saturday in October for all species. In the Pacific halibut fisheries, retention of groundfish is governed in part by annual management measures for Pacific halibut fisheries, which are published in the Federal Register. The following seasons, closed areas, sub-limits and size limits apply:

* * * * *

(i) * * *

(D) * * *

(1) West of the Bonilla-Tatoosh line between the U.S. border with Canada and the Queets River (Washington state Marine Area 3 and 4), recreational fishing for groundfish is prohibited seaward of a boundary line approximating the 20 fm (37 m) depth contour from June 1 through Labor Day, except on days when the Pacific halibut fishery is open in this area it is lawful to retain lingcod, Pacific cod, and sablefish seaward of the 20 fm (37 m) boundary. Yellowtail and widow rockfish can be retained seaward of 20 fm (37 m) in the months of July and August on days open to the recreational salmon fishery. Days open to Pacific halibut recreational fishing off Washington and days open to recreational fishing for salmon are announced on the NMFS hotline at (206) 526-6667 or (800) 662-9825. Coordinates for the boundary line approximating the 20 fm (37 m) depth contour are listed in § 660.71, subpart C.

(2) Between the Queets River (47°31.70′ N lat.) and Leadbetter Point (46°38.17′ N lat.) (Washington state Marine Area 2), recreational fishing for lingcod is prohibited seaward of a boundary line approximating the 30 fm (55 m) depth contour from the second Saturday in March through May 31 with the following exceptions: Recreational fishing for lingcod is permitted within the RCA on days that the primary halibut fishery is open; recreational fishing for lingcod is allowed on Sundays in May, but only if the Pacific halibut recreational fishery in this area is scheduled to be open for less than four days. In addition to the RCA described above, between the Queets River (47°31.70′ N lat.) and Leadbetter Point (46°38.17′ N lat.) (Washington state Marine Area 2), recreational fishing for lingcod is prohibited January 1 through May 31, June 16 through August 31, and September 16 through December 31 seaward of a straight line connecting all of the following points in the order stated: 47°31.70′ N lat., 124°45.00′ W long.; 46°38.17′ N lat., 124°30.00′ W long. with the following exceptions: On days that the primary halibut fishery is open lingcod may be taken, retained and possessed within the lingcod area closure; if the Pacific halibut recreational fishery is scheduled to be open less than four days, lingcod may be taken, retained, and possessed within the lingcod area closure on Sundays in May. Days open to Pacific halibut recreational fishing off Washington are announced on the NMFS hotline at (206) 526-6667 or (800) 662-9825. For additional regulations regarding the Washington recreational lingcod fishery, see paragraph (c)(1)(iv) of this section. Coordinates for the boundary line approximating the 30 fm (55 m) depth contour are listed in § 660.71.

(3) Between Leadbetter Point (46°38.17′ N lat.) and the Columbia River (46°16.00′ N lat.) (Marine Area 1), when Pacific halibut are onboard the vessel, no groundfish may be taken and retained, possessed or landed, except sablefish, flatfish species (except halibut), Pacific cod, and lingcod from May 1 through September 30. Except that taking, retaining, possessing or landing incidental halibut with groundfish on board is allowed in the nearshore area on days not open to all-depth Pacific halibut fisheries in the area shoreward of the boundary line approximating the 30 fathom (55 m) depth contour extending from Leadbetter Point, WA (46°38.17′ N lat., 124°15.88′ W long.) to the Columbia River (46°16.00′ N lat., 124°15.88′ W long.) and from there, connecting to the boundary line approximating the 40 fathom (73 m) depth contour in Oregon. Nearshore season days are established in the annual management measures for Pacific halibut fisheries, which are published in the Federal Register and are announced on the NMFS halibut hotline, 1-800-662-9825. Between Leadbetter Point (46°38.17′ N lat. 124°21.00′ W long.) and 46°33.00′ N lat. 124°21.00′ W long., recreational fishing for lingcod is prohibited year round seaward of a straight line connecting all of the following points in the order stated: 46°38.17′ N lat., 124°21.00′ W long.; and 46°33.00′ N lat., 124°21.00′ W long.

(ii) Rockfish. In areas of the EEZ seaward of Washington (Washington Marine Areas 1-4) that are open to recreational groundfish fishing, there is a 7 rockfish per day bag limit. Taking and retaining yelloweye rockfish is prohibited in all Marine areas.

(iii) Cabezon. In areas of the EEZ seaward of Washington (Washington Marine Areas 1-4) that are open to recreational groundfish fishing, there is a 1 cabezon per day bag limit.

(iv) Lingcod. In areas of the EEZ seaward of Washington (Washington Marine Areas 1-4) that are open to recreational groundfish fishing and when the recreational season for lingcod is open, there is a bag limit of 2 lingcod per day. The recreational fishing season for lingcod is open from the second Saturday in March through the third Saturday in October.

(2) * * *

(i) * * *

(B) Recreational rockfish conservation area (RCA). Fishing for groundfish with recreational gear is prohibited within the recreational RCA, a type of closed area or groundfish conservation area, except with long-leader gear (as defined at § 660.351). It is unlawful to take and retain, possess, or land groundfish taken with recreational gear within the recreational RCA, except with long-leader gear (as defined at § 660.351). A vessel fishing in the recreational RCA may not be in possession of any groundfish. [For example, if a vessel fishes in the recreational salmon fishery within the RCA, the vessel cannot be in possession of groundfish while within the RCA. The vessel may, however, on the same trip fish for and retain groundfish shoreward of the RCA on the return trip to port.] Off Oregon, from June 1 through August 31, recreational fishing for groundfish is prohibited seaward of a recreational RCA boundary line approximating the 40 fm (73 m) depth contour, except that fishing for flatfish (other than Pacific halibut) is allowed seaward of the 40 fm (73 m) depth contour when recreational fishing for groundfish is permitted. Coordinates for the boundary line approximating the 40 fm (73 m) depth contour are listed at § 660.71.

* * * * *

(3) * * *

(i) * * *

(A) Recreational rockfish conservation areas. The recreational RCAs are areas that are closed to recreational fishing for groundfish. Fishing for groundfish with recreational gear is prohibited within the recreational RCA, except that recreational fishing for “Other Flatfish,” petrale sole, and starry flounder is permitted within the recreational RCA as specified in paragraph (c)(3)(iv) of this section. It is unlawful to take and retain, possess, or land groundfish taken with recreational gear within the recreational RCA, unless otherwise authorized in this section. A vessel fishing in the recreational RCA may not be in possession of any species prohibited by the restrictions that apply within the recreational RCA. [For example, if a vessel fishes in the recreational salmon fishery within the RCA, the vessel cannot be in possession of rockfish while in the RCA. The vessel may, however, on the same trip fish for and retain rockfish shoreward of the RCA on the return trip to port.] If the season is closed for a species or species group, fishing for that species or species group is prohibited both within the recreational RCA and shoreward of the recreational RCA, unless otherwise authorized in this section.

(1) Between 42° N lat. (California/Oregon border) and 40°10′ N lat. (Northern Management Area), recreational fishing for all groundfish (except petrale sole, starry flounder, and “Other Flatfish” as specified in paragraph (c)(3)(iv) of this section) is closed from January 1 through April 30; is prohibited seaward of the 30 fm (55 m) depth contour along the mainland coast and along islands and offshore seamounts from May 1 through October 31 (shoreward of 30 fm is open); and is open at all depths from November 1 through December 31. Coordinates for the boundary line approximating the 30 fm (55 m) depth contour are listed in § 660.71.

(2) Between 40°10′ N lat. and 38°57.50′ N lat. (Mendocino Management Area), recreational fishing for all groundfish (except petrale sole, starry flounder, and “Other Flatfish” as specified in paragraph (c)(3)(iv) of this section) is closed from January 1 through April 30; prohibited seaward of the 20 fm (37 m) depth contour along the mainland coast and along islands and offshore seamounts from May 1 through October 31 (shoreward of 20 fm is open), and is open at all depths from November 1 through December 31.

(3) Between 38°57.50′ N lat. and 37°11′ N lat. (San Francisco Management Area), recreational fishing for all groundfish (except petrale sole, starry flounder, and “Other Flatfish” as specified in paragraph (c)(3)(iv) of this section) is closed from January 1 through April 1; is prohibited seaward of the boundary line approximating the 40 fm (73 m) depth contour along the mainland coast and along islands and offshore seamounts from April 1 through December 31. Closures around Cordell Banks (see paragraph (c)(3)(i)(C) of this section) also apply in this area. Coordinates for the boundary line approximating the 40 fm (73 m) depth contour are listed in § 660.71.

(4) Between 37°11′ N lat. and 34°27′ N lat. (Central Management Area), recreational fishing for all groundfish (except petrale sole, starry flounder, and “Other Flatfish” as specified in paragraph (c)(3)(iv) of this section) is closed from January 1 through March 31; and is prohibited seaward of a boundary line approximating the 50 fm (91 m) depth contour along the mainland coast and along islands and offshore seamounts from April 1 through December 31. Coordinates for the boundary line approximating the 50 fm (91 m) depth contour are specified in § 660.72.

(5) South of 34°27′ N lat. (Southern Management Area), recreational fishing for all groundfish (except California scorpionfish, “Other Flatfish,” petrale sole, and starry flounder) is closed entirely from January 1 through February 28. Recreational fishing for all groundfish (except “Other Flatfish,” petrale sole, and starry flounder, as specified in paragraph (c)(3)(iv) of this section) is prohibited seaward of a boundary line approximating the 75 fm (137 m) depth contour from March 1 through December 31 along the mainland coast and along islands and offshore seamounts, except in the CCAs where fishing is prohibited seaward of the 40 fm (73 m) depth contour when the fishing season is open (see paragraph (c)(3)(i)(B) of this section). Coordinates for the boundary lines approximating the depth contours are specified at §§ 660.71 through 660.74.

(B) Cowcod conservation areas. The latitude and longitude coordinates of the Cowcod Conservation Areas (CCAs) boundaries are specified at § 660.70. In general, recreational fishing for all groundfish is prohibited within the CCAs, except that fishing for petrale sole, starry flounder, and “Other Flatfish” is permitted within the CCAs as specified in paragraph (c)(3)(iv) of this section. However, recreational fishing for the following species is prohibited seaward of the 40 fm (37 m) depth contour when the season for those species is open south of 34°27′ N lat.: Minor Nearshore Rockfish, cabezon, kelp greenling, lingcod, California scorpionfish, and shelf rockfish. Retention of yelloweye rockfish, bronzespotted rockfish and cowcod is prohibited within the CCA. [Note: California state regulations also permit recreational fishing for California sheephead, ocean whitefish, and all greenlings of the genus Hexagrammos shoreward-of the 40 fm (73 m) depth contour in the CCAs when the season for the RCG complex is open south of 34°27′ N lat.] It is unlawful to take and retain, possess, or land groundfish taken within the CCAs, except for species authorized in this section.

(C) Cordell Banks. Recreational fishing for groundfish is prohibited in waters less than 100 fm (183 m) around Cordell Banks as defined by specific latitude and longitude coordinates at § 660.70, subpart C, except that recreational fishing for petrale sole, starry flounder, and “Other Flatfish” is permitted around Cordell Banks as specified in paragraph (c)(3)(iv) of this section.

* * * * *

(ii) * * *

(D) Dressing/filleting. Cabezon, kelp greenling, and rock greenling taken in the recreational fishery may not be filleted at sea. Rockfish skin may not be removed when filleting or otherwise dressing rockfish taken in the recreational fishery.

* * * * *

(iii) * * *

(B) Bag limits, hook limits. In times and areas when the recreational season for lingcod is open, there is a limit of 2 hooks and 1 line when fishing for lingcod. Multi-day limits are authorized by a valid permit issued by California and must not exceed the daily limit multiplied by the number of days in the fishing trip.

(1) The bag limit between 42° N lat. (California/Oregon border) and 40°10′ N lat. (Northern Management Area) is 2 lingcod per day.

(2) The bag limit between 40°10′ N lat. and the U.S. border with Mexico (Mendocino Management Area, San Francisco Management Area, Central Management Area, and Southern Management Area) is 1 lingcod per day.

* * * * *

(D) Dressing/filleting. Lingcod filets may be no smaller than 14 in (36 cm) in length. Each fillet shall bear an intact 1 in (2.6 cm) square patch of skin.

(iv) “Other Flatfish,” petrale sole, and starry flounder. Coastwide off California, recreational fishing for “Other Flatfish,” petrale sole, and starry flounder, is permitted both shoreward of and within the closed areas described in paragraph (c)(3)(i) of this section. “Other Flatfish” are defined at § 660.11, subpart C, and include butter sole, curlfin sole, flathead sole, Pacific sanddab, rex sole, rock sole, and sand sole. “Other Flatfish,” are subject to the overall 20-fish bag limit for all species of finfish, of which there may be no more than 10 fish of any one species; there is no daily bag limit for petrale sole, starry flounder and Pacific sanddab. There are no size limits for “Other Flatfish,” petrale sole, and starry flounder. “Other Flatfish”, petrale sole, and starry flounder may be filleted at sea. Fillets may be of any size, but must bear intact a one-inch square patch of skin.

(v) * * *

(A) Seasons. When recreational fishing for California scorpionfish is open, it is permitted only outside of the recreational RCAs described in paragraph (c)(3)(i) of this section.

(1) Between 40°10′ N lat. and 38°57.50′ N lat. (Mendocino Management Area), recreational fishing for California scorpionfish is open from May 1 through December 31 (i.e., it's closed from January 1 through April 30).

(2) Between 38°57.50′ N lat. and 37°11′ N lat. (San Francisco Management Area), recreational fishing for California scorpionfish is open from April 15 through December 31 (i.e., it's closed from January 1 through April 14).

(3) Between 37°11′ N lat. and 34°27′ N lat. (Central Management Area), recreational fishing for California scorpionfish is open from April 1 through December 31 (i.e., it's closed from January 1 through March 31).

(4) South of 34°27′ N lat. (Southern Management Area), recreational fishing for California scorpionfish is open from January 1 through December 31.

(B) Bag limits, hook limits. South of 40°10.00′ N lat., in times and areas where the recreational season for California scorpionfish is open there is a limit of 2 hooks and 1 line, the bag limit is 5 California scorpionfish per day. California scorpionfish do not count against the 10 RCG Complex fish per day limit. Multi-day limits are authorized by a valid permit issued by California and must not exceed the daily limit multiplied by the number of days in the fishing trip.

* * * * *

(d) Salmon bycatch. Recreational fisheries that are not accounted for within pre-season salmon modeling may be closed through automatic action at 660.60(d)(1)(v) and (d)(1)(vi).

[FR Doc. 2018-19460 Filed 9-18-18; 8:45 am]

BILLING CODE 3510-22-P